ENVIRONMENTAL PROTECTION AGENCY

40 CFR Part 63

[FRL-6734-3]

RIN 2060-AG97

National Emission Standards for Hazardous Air Pollutants: Metal Coil Coating

AGENCY: Environmental Protection Agency (EPA).

ACTION: Proposed rule.

SUMMARY: This action proposes national emission standards for hazardous air pollutants (NESHAP) for facilities that coat metal coil. The EPA has identified metal coil coating as a major source of hazardous air pollutant (HAP) emissions such as methyl ethyl ketone, glycol ethers, xylenes (isomers and mixtures), toluene, and isophorone. These proposed standards will implement section 112(d) of the Clean Air Act (CAA or Act) by requiring all major sources to meet HAP emission standards reflecting the application of the maximum achievable control technology (MACT). The proposed standards would eliminate approximately 55 percent of nationwide HAP emissions from these major sources.

DATES: Comments. Submit comments on or before September 18, 2000.

Public Hearing. If anyone contacts the EPA requesting to speak at a public hearing by August 7, 2000, a public hearing will be held on August 17, 2000.

ADDRESSES: Comments. Written comments should be submitted (in duplicate if possible) to: Air and Radiation Docket and Information Center (6102), Attention Docket Number A-97-47, U.S. Environmental Protection Agency, 1200 Pennsylvania Avenue, NW, Washington, DC 20460. The EPA requests a separate copy also be sent to the contact person listed in FOR FURTHER INFORMATION CONTACT.

Public Hearing. If a public hearing is held, it will be held at our Office of Administration Auditorium in Research Triangle Park, North Carolina. You should contact Ms. Janet Eck, Coatings and Consumer Products Group, Emission Standards Division (MD-13), U.S. Environmental Protection Agency, Research Triangle Park, North Carolina 27711, telephone number (919) 541-7946 to request to speak at a public hearing or to find out if a hearing will be held.

Docket. Docket No. A-97-47 contains supporting information used in developing the proposed standards. The docket is located at the U.S. Environmental Protection Agency, 401 M Street, SW, Washington, DC 20460 in Room M-1500, Waterside Mall (ground floor), and may be inspected from 8:30 a.m. to 5:30 p.m., Monday through Friday, excluding legal holidays.

FOR FURTHER INFORMATION CONTACT: Ms. Rhea Jones, Coatings and Consumer Products Group, Emission Standards Division (MD-13), U.S. Environmental Protection Agency, Research Triangle Park, North Carolina 27711, telephone number (919) 541-2940, facsimile number (919) 541-5689; electronic mail address: jones.rhea@epa.gov.

SUPPLEMENTARY INFORMATION: Comments. Comments and data may be submitted by electronic mail (e-mail) to: a-and-r-docket@epa.gov. Electronic comments must be submitted as an ASCII file to avoid the use of special characters and encryption problems and will also be accepted on disks in WordPerfect® version 5.1, 6.1, or Corel 8 file format. All comments and data submitted in electronic form must note the docket number: A-97-47. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: Rhea Jones, c/o OAQPS Document Control Officer (Room 740B), U.S. Environmental Protection Agency, 411 W. Chapel Hill Street, Durham, NC 27701. The EPA will disclose information identified as CBI only to the extent allowed by the procedures set forth in 40 CFR part 2. If no claim of confidentiality accompanies a submission when it is received by the EPA, the information may be made available to the public without further notice to the commenter.

Public Hearing. Persons interested in presenting oral testimony or inquiring as to whether a hearing is to be held should contact Ms. Janet Eck, Coatings and Consumer Products Group, Emission Standards Division (MD-13), U.S. Environmental Protection Agency, Research Triangle Park, North Carolina 27711; telephone number (919) 541-7946 at least 2 days in advance of the public hearing. Persons interested in attending the public hearing should also call Ms. Eck to verify the time, date, and location of the hearing. The public hearing would provide interested parties the opportunity to present data, views, or arguments concerning these proposed emission standards.

Docket. The docket is an organized and complete file of all the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the CAA.) The regulatory text and other materials related to this rulemaking are available for review in the docket or copies may be mailed on request from the Air Docket by calling (202) 260-7548. A reasonable fee may be charged for copying docket materials.

Worldwide Web (WWW). In addition to being available in the docket, an electronic copy of this proposed rule is also available on the WWW through the Technology Transfer Network (TTN). Following signature, a copy of the rule will be posted on the TTN's policy and guidance page for newly proposed or promulgated rules http://www.epa.gov/ttn/oarpg. The TTN provides information and technology exchange in various areas of air pollution control. If more information regarding the TTN is needed, call the TTN HELP line at (919) 541-5384.

Plain Language. In compliance with President Clinton's June 1, 1998 Executive Memorandum on plain language in government writing, this preamble is written using plain language, thus, the use of “we” and “us” in this document refers to the EPA. The use of “you” refers to the reader, and may include industry; State, local, and tribal governments; environmental groups; and other interested individuals.

Regulated Entities. Categories and entities potentially regulated by this action include:

Category | SIC codes | Examples of potentially regulated entities
Metal coil coating industry | 3479 a, 2591, 2796, 3053, 3081, 3083, 3086, 3316, 3312, 3313, 3317, 3334, 3341, 3352, 3353, 3355, 3441, 3444, 3446, 3448, 3465, 3471, 3490, 3499, 3555, 3699, 3714, 3861, 5051, 5084, 7389, 8731, 8734 | Those facilities that perform surface coating of metal coil.
ᵃ The majority of facilities are included in SIC 3479.

This table is not intended to be exhaustive, but rather provides a guide for readers regarding entities likely to be regulated by this action. To determine whether your facility is regulated by this action, you should examine the applicability criteria in section II of this preamble and in § 63.5090 of the proposed rule. If you have any questions regarding the applicability of this action to a particular entity, consult the person listed in the preceding FOR FURTHER INFORMATION CONTACT section.

Background Information Document. The Background Information Document (BID) for the proposed standard may be obtained from the TTNWWW; the metal coil coating docket (A-97-47); the U.S. EPA Library (MD-35), Research Triangle Park, North Carolina 27711, telephone number (919) 541-2777; or the National Technical Information Service, 5285 Port Royal Road, Springfield, Virginia 22161, telephone (703) 487-4650. Please refer to “National Emission Standards for Hazardous Air Pollutants: Metal Coil Coating NESHAP—Background Information for Proposed Standards” (EPA 453/P-00-001).

Outline. The information presented in this preamble is organized as follows:

I. What are the subject and purpose of this proposed rule?

II. Does this proposed rule apply to me?

III. What is the proposed emission standard?

IV. When do I show initial compliance with the proposed rule?

V. What testing and monitoring must I do?

VI. What notification, recordkeeping, and reporting requirements must I follow?

VII. What are the environmental, energy, and economic impacts of this proposed rule?

VIII. What is the basis for selecting the level of the proposed standards?

IX. What is the basis for selecting the format of the proposed standards?

X. Why did we select the proposed monitoring requirements?

XI. Why did we select the proposed test methods?

XII. Why did we select the proposed notification, recordkeeping, and reporting requirements?

XIII. Administrative Requirements

I. What Are the Subject and Purpose of This Proposed Rule?

The CAA requires us to establish standards to control HAP emissions from source categories identified under section 112(c). An initial source category list was published in the Federal Register on July 16, 1992 (57 FR 31576). The source category list identifies “Metal Coil Coating (Surface Coating)” as a source category because it contains major sources. Under the CAA, a major source is defined as “. . . any stationary source or group of stationary sources located within a contiguous area and under common control that emits or has the potential to emit considering controls, in the aggregate, at least 10 tons per year (tpy) or more of any one HAP or 25 tpy of any combination of HAP.” Sources that emit or have the potential to emit less than these amounts are considered area sources. We have estimated that there are over 90 existing facilities in the source category; all are believed to be major sources.

The purpose of the proposed rule is to reduce emissions of HAP from major sources that coat metal coil. We estimate that annual baseline HAP emissions from this source category are approximately 2,258 megagrams per year (Mg/yr) (2,484 tpy). The proposed rule would eliminate approximately 1,241 Mg/yr (1,366 tpy) or 55 percent of the major source organic HAP emissions.

The major HAP emitted from the metal coil coating process include methyl ethyl ketone and gycol ethers. These compounds account for over 50 percent of the nationwide HAP emissions from this source category. Other HAP identified in emissions include xylenes (isomers and mixtures), toluene, and isophorone. Each of these major HAP can cause reversible or irreversible toxic effects following sufficient exposure. The potential toxic effects include eye, nose, throat, and skin irritation, and blood cell, heart, liver, and kidney damage.

The degree of adverse effects to human health from exposure to HAP can range from mild to severe. The extent and degree to which the human health effects may be experienced are dependent upon (1) the ambient concentration observed in the area (as influenced by emission rates, meteorological conditions, and terrain); (2) the frequency and duration of exposures; (3) characteristics of exposed individuals (genetics, age, preexisting health conditions, and lifestyle), which vary significantly with the population; and (4) pollutant-specific characteristics (toxicity, half-life in the environment, bioaccumulation, and persistence).

II. Does This Proposed Rule Apply to Me?

A. What Facilities Are Subject to This Proposed Rule?

Metal coil surface coating is a process-specific rather than a product-specific operation. Accordingly, the proposed rule applies to you if you own or operate any metal coil coating operation at a facility that is a major source of HAP emissions. We have defined a coil coating operation as the application system used to apply an organic coating to the surface of any continuous metal strip at least 0.006 inch thick that is packaged in a roll or coil, which includes the web unwind or feed station; the series of one or more coating stations and any associated curing ovens; the wet section/pretreatment operations; equipment and parts cleaning operations; the quenching operations; the mixing/thinning operations; and the storage and wastewater operations.

A major source would also be subject to all other applicable NESHAP for the various source categories, other than metal coil coating, that may be present at the facility. This means your facility may be subject to multiple NESHAP, and you would be responsible for complying with the standards set for each NESHAP. Coating equipment that is dedicated to research and development is not covered by the proposed NESHAP.

B. How Is the Affected Source Defined?

We define an affected source as a stationary source, group of stationary sources, or part of a stationary source to which a specific emission standard applies. Within a source category, we select the specific emission sources (emission points or groupings of emission points) that will make up the affected source for that category. To select these emission sources, we mainly consider the constituent HAP and quantity emitted from individual or groups of emission points.

For the proposed metal coil NESHAP, the floor level of control on which the emission standard is based is 98 percent overall control efficiency of the capture and control system. The affected source subject to the emission standard is proposed to be the collection of coil coating lines at a facility. Specific emission sources that will be subject to the proposed emission limitations include the coating application stations and associated curing ovens. Wet section/pretreatment and quench operations are part of the metal coil coating line, but are not subject to the proposed emission limitations.

We are not proposing requirements for the storage, wastewater, mixing/thinning, and parts and equipment cleaning operations. The proposed standard would apply to emissions of all organic HAP listed in section 112(b) of the CAA and apply to HAP present in coatings applied to the metal coil.

Some facilities may perform both foil and coil coating operations on the same equipment. Where this situation occurs, both coating operations will be subject to the proposed metal coil coating NESHAP.

III. What Is the Proposed Emission Standard?

A. What Are the Emission Limits?

In the proposed rule, you have two options to limit HAP emissions: (1) Reduce emissions of the organic HAP applied for the month by 98 percent; or (2) limit HAP emissions to no more than 0.029 kilograms per liter (kg/l) of solids applied (0.24 pounds per gallon (lbs/gal)) for the month. The second option can be met through a combination of coating formulation and add-on capture and control devices, or by limiting the amount of HAP in your coatings to no more than 0.029 kg/l of solids (0.24 lbs/gal) on average for the month.

Before your initial compliance demonstration, you would choose one of these emission limit options for your coating lines. In your initial compliance certification, you would notify the Administrator of your choice, and after that you would monitor and report compliance results accordingly. If you decide to change to the other emission limit option, you are required to notify the Administrator, as with other changes at the facility discussed in section VI of this preamble.

In submitting comments, please specify whether the comment pertains to one or all of the emission limitation and compliance options. We will further evaluate the standard based on our review of public comments and other information we may receive. The final rule may reflect either or both of the proposed options to limit HAP emissions.

The General Provisions (40 CFR part 63, subpart A) would also apply to you, as outlined in table 1 of the proposed rule. The General Provisions codify procedures and criteria we use to carry out all part 63 NESHAP promulgated under the CAA. The General Provisions contain administrative procedures, preconstruction review procedures, and procedures for conducting compliance-related activities such as notifications, recordkeeping and reporting, performance testing, and monitoring. The proposed subpart SSSS refers to individual sections of the General Provisions to highlight key sections that we believe will be of particular interest to you. However, unless specifically overridden in table 1 of subpart SSSS, all of the applicable General Provisions requirements would apply to you.

You may be subject to the proposed metal coil NESHAP and other future or existing rules, such as State rules requiring reasonably available control technology limits on volatile organic compounds (VOC) emissions or the new source performance standards (NSPS) in 40 CFR part 60, subpart TT. You must comply with all rules that apply to you. Compliance with different numerical standards should be resolved through your title V permit.

B. What Pollutants Are Limited by This Proposed Rule?

We propose to limit total organic HAP emissions from coating lines. Inorganic HAP are present in pigments and film-forming components of some coatings. These components remain on the substrate for the life of the product and are not expected to be emitted into the air. Therefore, inorganic HAP are not covered by the proposed NESHAP. In section 112, the CAA lists the HAP to be regulated.

IV. When Do I Show Initial Compliance With the Proposed Rule?

Existing sources would have to comply with the final rule no later than 3 years after the effective date of the final rule. The effective date is the date on which the final rule is published in the Federal Register. New or reconstructed sources would have to comply upon start-up of the affected source or the effective date of the final rule, whichever is later. Details of compliance demonstrations can be found in the General Provisions, as outlined in table 1 of subpart SSSS.

V. What Testing and Monitoring Must I Do?

In addition to the testing and monitoring requirements specified below for the affected source, the proposed rule adopts the testing requirements specified in § 63.7.

A. Test Methods and Procedures

You may comply with the proposed standards by applying materials meeting the organic HAP emission rate limit, by using capture and control equipment to reduce organic HAP emissions by 98 percent, or by using a combination of low organic HAP materials and capture and control equipment to meet the organic HAP emission rate limit.

If you demonstrate compliance based on the materials applied on your coating lines, you must determine the organic HAP content or the volatile matter content, and the solids content of materials applied. To determine organic HAP content, you may either use EPA Method 311 of appendix A of 40 CFR part 63, use an alternative method for determining the organic HAP content (but only after obtaining EPA approval), or use the volatile matter content of the materials applied as a surrogate for the organic HAP content. The volatile matter content must be determined by EPA Method 24 of appendix A of 40 CFR part 60, or an EPA approved alternative method. The volume solids content of the material must be determined using ASTM D2697-86, or ASTM D6093-97. You may rely on manufacturer's data to determine the organic HAP content or volatile matter and solids content when these data are equivalent to those obtained from Method 311, Method 24, ASTM D2697-86, or ASTM D6093-97 (or an EPA approved alternative method), respectively. You must determine the mass of each coating material applied using company records. If diluent solvents or other ingredients are added to a material prior to application, then the total organic HAP fractions and mass must be adjusted appropriately to account for such additions. You must calculate the organic HAP content and mass of all materials applied on the coating lines for each monthly period. However, only changes in a material formulation would require a re-determination of total organic HAP weight fraction for that material. To demonstrate compliance, you must calculate the average mass of organic HAP in materials applied and show that it is less than the organic HAP emission limit.

If you use an emission capture and control system to comply with the standard, you must demonstrate that the overall control efficiency reduces total organic HAP by at least 98 percent. Alternatively, you may use capture and control equipment in combination with low organic HAP materials and demonstrate you meet the organic HAP emission limitation specified. To comply using the combined approach, you must determine the overall control efficiency of the equipment and the organic HAP and solids content of the materials applied. These values must be determined for each monthly period.

The overall control efficiency for a capture and control system would be demonstrated based on capture and reduction efficiency. You must determine the capture efficiency or verify the presence of a total enclosure using EPA Method 204 of 40 CFR part 51, appendix M. The EPA Method 204A through F of 40 CFR part 51, appendix M, is used to determine the capture efficiency of enclosures that do not meet the criteria for total enclosures. You must determine the emission reduction efficiency of a control device by conducting a performance test or using a continuous emission monitoring system (CEMS). If you use CEMS, you must determine the inlet and outlet concentration to calculate the control efficiency. The CEMS must comply with performance specification 8 or 9 in 40 CFR part 60, appendix B.

If you conduct a performance test, we are proposing that the removal efficiency of a control device be determined based on three runs, each run lasting 1 hour. Method 1 or 1A of 40 CFR part 60, appendix A is used for selection of the sampling sites. Method 2, 2A, 2C, 2D, 2F, or 2G of 40 CFR part 60, appendix A, is used to determine the gas volumetric flow rate. Method 3, 3A, or 3B of 40 CFR part 60, appendix A, is used for gas analysis to determine dry molecular weight. Method 4 of 40 CFR part 60, appendix A, is used to determine stack moisture. Method 25 or 25A of 40 CFR part 60, appendix A, is used to determine organic volatile matter concentration. Alternatively, any other test method or data that have been validated according to the applicable procedures in Method 301 of 40 CFR part 63, appendix A, may be used upon obtaining EPA approval.

If you use a solvent recovery system, you may alternatively determine the overall control efficiency using a liquid-liquid material balance. If you demonstrate compliance with the material balance, you must measure the amount of all materials applied during each month and determine the volatile matter content of these materials. You must also measure the amount of volatile matter recovered by the solvent recovery system during the month and calculate the overall solvent recovery efficiency.

B. Monitoring Requirements

Monitoring is required by the proposed standards to ensure that the affected source is in continuous compliance. Monitoring requirements apply if you comply with the proposed rule using emission capture and control devices to meet the standards expressed as a percent control or as an organic HAP emission rate limit.

Monitoring to demonstrate compliance is accomplished by measuring site-specific operating parameters, the values of which you establish during the performance test described in section V.A of this preamble. You must install, calibrate, maintain, and operate all monitoring equipment according to manufacturer's specifications. If you use control devices other than those identified in the proposed standards you must submit the operating parameters to be monitored to the Administrator for approval. The authority to approve the parameters to be monitored is retained by the Administrator and is not delegated.

The operating parameter value is defined as the minimum or maximum (as applicable) value established for a control device or process parameter achieved during the most recent performance test that demonstrated compliance with the emission standard.

If you use a capture and control system to meet the proposed standards and you do not use liquid-liquid material balances to demonstrate compliance, you are required to submit a plan identifying the operating limit and monitoring procedures for the capture efficiency. You must monitor in accordance with your plan unless we require an alternate monitoring procedure.

If you use a thermal or catalytic oxidizer, you must monitor temperature using a continuous recorder. If you use a thermal oxidizer, you must establish the minimum combustion temperature recorded during the performance test as the operating limit. If you use a catalytic oxidizer, you must establish as the operating parameters the minimum gas temperatures both upstream and downstream of the catalyst bed. These minimum temperatures are the operating parameters used to demonstrate continuous compliance. The time weighted average of the values recorded during the performance test shall be computed to establish the parameter value(s). For catalytic oxidizers, temperature monitors are placed immediately before and after the catalyst bed. For thermal oxidizers, the temperature monitor is placed in the firebox or in the duct immediately downstream of the firebox before any substantial heat exchange occurs.

If you operate metal coil coating lines with intermittently-controllable work stations, you must demonstrate that HAP emissions from each curing oven associated with these work stations are being routed to the control device by monitoring for potential bypass of the control device. You may choose from the following four procedures:

(1) Flow control position indicator to provide a record of whether the exhaust stream is directed to the control device;

(2) Car-seal or lock-and-key valve closures to secure the bypass line valve in the closed position when the control device is operating;

(3) Valve closure continuous monitoring to ensure any bypass line valve or damper is closed when the control device is operating; or

(4) Automatic shutdown system to stop operation of the metal coil coating line when flow is diverted from the control device when the control device is operating.

If you use a solvent recovery system, you must conduct monthly liquid-liquid mass balances or operate CEMS as described above in the test methods and procedures section of this preamble.

If you use a combination of capture and control devices and low-HAP materials, you are required to monitor the parameter of the capture and control device as indicated above. In addition, you must record data on the HAP and solids content of the materials applied to determine the HAP emission rate as described in the performance test section.

VI. What Notification, Recordkeeping, and Reporting Requirements Must I Follow?

A. Initial Notification

If the NESHAP apply to you, you must send notification to the appropriate EPA Regional Office, and to your State or local agency, at least 1 year before the compliance date for existing sources and within 120 days after the date of initial start-up for new and reconstructed sources, or 120 days after publication of the final rule, whichever is later. New major affected sources must submit an application for approval of construction or reconstruction according to § 63.5(d)(1). This application satisfies the initial notification requirement. The initial notification informs us and your State agency that you have an existing facility that is subject to the proposed NESHAP or that you have constructed a new facility. Thus, it allows you and the enforcement agency to plan for compliance activities.

B. Notification of Performance Test

If you demonstrate compliance by using a capture and control system to reduce emissions of HAP, you must conduct a performance test as described above. Prior to conducting the performance test, you must notify us (or the delegated State or local agency) at least 60 calendar days before the performance test is scheduled to begin, as indicated in the General Provisions for the NESHAP.

C. Notification of Compliance Status

Your compliance procedures will depend on which compliance option you choose. You are required to send a notification of compliance status within 180 days after the compliance date. The notification of compliance status should specifically identify whether low-HAP materials, emission capture and control systems, or a combination of the two were used to demonstrate compliance, and, for capture and control systems, the results of performance tests and monitoring, and a description of how you will determine continuing compliance. Your notice must also specify what operating limits were established during the performance test, the range of each monitored parameter for your affected source, information verifying that this range shows compliance with the emission standard, and information showing that the source has operated within its designated operating parameters. To comply with the proposed NESHAP, your compliance report must contain at least 5 months of coating content data where low-HAP materials are used and monitoring data where capture and control systems are used to demonstrate that you have been in compliance since the compliance date.

D. Recordkeeping Requirements

Depending on the compliance approach you choose, you may have to keep records of one or more of the following:

• Organic HAP, volatile matter, and solids content of the coatings, as applied.

• Monthly usage of all coatings and other materials applied.

• Equipment monitoring parameter measurements.

Deviations from the proposed standard, as calculated from these records, need to be reported as described in the section below.

E. Periodic Reports

Each reporting year is divided into two semiannual reporting periods. If no deviations occur during a semiannual reporting period you would submit a semiannual report stating that the affected source has been in compliance. The following semiannual reports would be required under this proposal when deviations occur:

• If you are complying by using oxidizers, report all times when a 3-hour average temperature was below the average temperature established during the most recent performance test when compliance was demonstrated.

• If you are complying with the HAP percent reduction limitation by using solvent recovery systems and you choose to show compliance by means of a liquid-liquid mass balance, report information on all months when the material balances did not meet the standard.

• If you are complying by using oxidizers or solvent recovery systems where liquid-liquid material balances are not conducted, report all days when, for any 3-hour period, the average value of the site-specific operating parameter used to monitor the capture system performance was greater than or less than (as appropriate) the operating parameter value established for the capture system.

• If you are complying by using low-HAP materials, report each deviation from the emission limit.

• If you are complying by using a combination of capture and control systems and low-HAP materials, report information on control device parameter deviations as described above. In addition, you would be required to submit semiannual reports of deviations of monthly calculated HAP emission limitations.

You would also have to send us reports for each semiannual reporting period in which the following occur:

• A change occurs at your facility or within your process that might affect its compliance status.

• A change occurs at your facility or within your process that you must normally report in the initial notice.

• You decide to change to another emission limitation option.

F. Other Reports

You are required to submit other reports, including those you must do for periods of start-up, shutdown, and malfunction. For example, if you use a capture and control system to reduce HAP emissions, you must develop a start-up, shutdown, and malfunction plan. You would have to make the plan available for inspection if the Administrator requests to see it. It would stay in your records for the life of the affected source or until the source is no longer subject to the standard. If the procedures you follow during any start-up, shutdown, or malfunction are inconsistent with your plan, you must report those procedures with your semiannual reports.

VII. What Are the Environmental, Energy, and Economic Impacts of This Proposed Rule?

As explained below, we do not expect any significant adverse environmental or energy impacts resulting from the proposed rule. Any negative economic impacts are also expected to be small. Actual compliance costs will depend on each source's existing equipment and the modifications made to comply with the standard. We have estimated that the installation of permanent total enclosures and the installation of, or improvement to, thermal oxidizers at existing facilities could require nationwide capital costs of approximately $11.6 million and annual operating costs of about $6.2 million. Costs could be much lower if facilities choose to use low-HAP coatings.

A. Emission Reductions

For existing sources in the metal coil coating industry, the nationwide baseline HAP emissions are estimated to be 2,258 Mg/yr (2,484 tpy). We estimate that implementation of the final rule would reduce emissions from these sources by 1,241 Mg/yr (1,366 tpy), or approximately 55 percent.

Since the emission limits for new and existing sources are the same, emission reductions for new sources are expected to be similar to the 55 percent emission reduction estimated for existing sources.

B. Secondary Environmental Impacts

Secondary environmental impacts are considered to be any air, water, or solid waste impacts, positive or negative, associated with the implementation of the final standards. These impacts are exclusive of the direct organic HAP air emission reductions discussed in the previous section.

Most of the organic HAPs are VOC. Capture and control of HAP that are presently emitted will result in a decrease in VOC emissions. In addition, the proposed emission control systems used to reduce HAP emissions will reduce non-HAP VOC emissions as well. We do not have information on non-HAP VOC emissions from metal coil coating operations; consequently, we cannot quantify the reduction of VOC emissions. However, the percent reduction should be similar to the percent reduction in HAP emissions (i.e., about 55 percent). Emissions of VOC have been associated with a variety of health and welfare impacts. The VOC emissions, together with nitrogen oxides, are precursors to the formation of ground level ozone, or smog. Exposure to ambient ozone is responsible for a series of public health impacts, such as alterations in lung capacity and aggravation of existing respiratory disease. Ozone exposure can also damage forests and crops.

The use of newly installed or upgraded control devices will result in greater electricity consumption. Increases in emissions of nitrogen oxides, sulfur dioxide, carbon monoxide, and carbon dioxide, as well as certain HAP, from electric utilities could result. In the metal coil coating industry, some plants will comply by installing or upgrading oxidizers. Supplemental fuel, typically natural gas, will be used, particularly for thermal oxidizers. Combustion of this fuel will result in additional carbon dioxide emissions and may result in additional emissions of nitrogen oxides and carbon monoxide.

A small number of facilities using waterborne coatings may install condenser systems to comply with the proposed standard. This will result in the generation of wastewater streams that may require treatment to remove the HAP. It also is expected that some metal coil coating facilities will comply with the proposed standard by substituting non-HAP materials for HAP presently in use. In some cases, the non-HAP materials may be VOC, however, in other cases, non-VOC (e.g., water) materials may be used. Facilities converting to waterborne materials as a means or partial means of compliance may have reduced Resource Conservation and Recovery Act hazardous waste disposal if the status of the waste material changes from hazardous to nonhazardous. An increase in wastewater discharge may occur if waste material and waterborne wash-up materials are discharged to publicly owned treatment works. There is no assurance that facilities converting to low-HAP formulations will adopt waterborne rather than non-HAP VOC-based materials.

New and upgraded catalytic oxidizers will require catalysts. Catalyst life is estimated to be more than 10 years. Spent catalysts will represent a small amount of solid waste, and sometimes the spent catalyst will be regenerated by the manufacturer for reuse. Activated carbon used in solvent recovery systems is returned to the manufacturer at the end of its useful life and converted to other salable products. Little solid waste impact is expected from this source.

C. Energy Impacts

The operation of new and upgraded control devices will require additional energy. Capture of previously uncontrolled solvent-laden air will require fan horsepower. Operation of oxidizers, particularly thermal oxidizers, may require supplemental fuel (typically natural gas).

The total additional electrical energy required to meet the standard is estimated to be 14.6 million kilowatt-hours per year. Nationwide incremental natural gas usage is expected to increase by 110.6 million standard cubic feet per year.

D. Cost Impacts

The total nationwide capital and annualized costs (1997 dollars) attributable to compliance with the proposed standards have been estimated for existing sources. These costs are based on model plant analysis of the least-cost measure needed for facilities to attain one of the compliance options. For existing facilities, with the exception of facilities applying waterborne coatings that do not meet the emission rate limit, the compliance costs represent the incremental costs associated with upgrading existing HAP emission controls.

Compliance Costs for New Sources. Since the proposed HAP emission limits for existing and new sources are the same, the incremental costs required to upgrade existing HAP emission controls are an indication of the incremental costs that will be incurred by new sources to install and operate the level of HAP emission controls required to achieve the proposed emission limits. For example, for a small coating line with one application station enclosed by a permanent total enclosure and a thermal oxidizer to control HAP emissions, the incremental capital costs are estimated to be about $213,000, and the annual costs including monitoring, recordkeeping, and reporting costs approximately $78,000. Similarly, for a large coating line with two application stations enclosed by permanent total enclosures and two thermal oxidizers, the incremental capital costs are estimated to be about $406,000, and the annual costs around $182,000, including monitoring, recordkeeping, and reporting costs. A coating line applying waterborne coatings is estimated to incur capital costs of around $780,000 and annual costs of approximately $277,000, including monitoring, recordkeeping, and reporting to install and operate a condenser system to control HAP emissions.

The incremental costs incurred for coating lines controlled by thermal incinerators include retrofit factors, and, thus for new sources, the incremental costs are probably overstated. Nonetheless, the estimated costs should not deter the construction of new metal coil coating lines or the entry of new companies into the industry.

Capital Costs for Existing Sources. Capital costs would be incurred by installing capture and control systems at those facilities presently without controls and upgrading capture and control systems at existing facilities that do not meet the proposed standard. Additionally, the purchase of monitoring equipment may be needed as a capital investment to meet the monitoring, recordkeeping, and reporting requirements of the proposed rule. Total nationwide capital costs are estimated at $11.6 million, based on the use of permanent total enclosures, thermal oxidizers, solvent recovery systems, and monitoring equipment. The total nationwide capital costs with other methods of control are expected to be lower.

Annual Costs at Existing Sources. Total nationwide annual costs of the proposed standard have been estimated at approximately $6.0 million per year with the use of permanent total enclosures and new or upgraded thermal oxidizers or solvent recovery systems. These costs include capital recovery over a 15-year period, operating costs for the newly installed and upgraded capture and control systems, and costs for monitoring, recordkeeping, and reporting. These are net costs after taking into account the costs presently being incurred for the baseline control level. The total nationwide annual costs with methods of control other than thermal oxidizers are expected to be lower.

E. Economic Impacts

The Economic Impact Analysis (EIA) (included in the BID, EPA 453/P-00-001) shows that the expected price increase for coated metal coils would be approximately 0.2 percent as a result of the proposed standards. Therefore, no adverse impact is expected to occur for those industries that consume coated metal coils such as building and construction, appliances, automotive parts, and other consumer products.

The distribution of costs across metal coil coating facilities is slanted toward the lower impact levels with many facilities incurring no costs or only those related to initial performance testing and annually recurring monitoring, recordkeeping, and reporting. The EIA indicates that these regulatory costs are expected to represent less than 1 percent of the value of coating services, which should not cause producers to cease or alter their current operations. Hence, no firms or facilities are at risk of closure because of the proposed standards. For more information, consult the docket for this project.

VIII. What Is the Basis for Selecting the Level of the Proposed Standards?

A. Source of Authority for Standards Development

Section 112(c) of the CAA directs us to develop a list of all categories of major sources and appropriate area sources that emit one or more of the 188 HAP listed under section 112(b). Metal coil coating is a listed source category because of its HAP emissions that include, but are not limited to, toluene, methanol, methyl ethyl ketone, xylenes, phenol, methylene chloride, ethylene glycol and glycol ethers, hexane, methyl isobutyl ketone, cresols and cresylic acid, dimethylformamide, vinyl acetate, formaldehyde, and ethyl benzene.

B. What Is the Basis for Defining the Affected Source?

In defining the affected source for the proposed metal coil coating NESHAP, we considered available information on HAP emissions, control configurations, industry practices, and products produced.

A metal coil coating operation is the application system used to apply an organic coating to the surface of any continuous metal strip at least 0.006 inch thick or more that is packaged in a roll or coil. It includes the affected source and associated operations that support the coating process.

In general, metal coil-coating facilities are covered by the SIC codes listed in the Regulated Entities table. However, facilities classified under other SIC codes may be subject to the proposed standards if the facility meets the definition of a major source and conducts metal coil coating.

Although the coil coated metal is used in an extensive list of products, the coating processes used by the different segments of the coil coating industry are very similar. Typically, the coil (or roll) of bare sheet metal strip is unwound, cleaned and treated in a wet section, air-dried, and coated on one or both sides. A prime coat is applied, cured in an oven and quenched (i.e., cooled by an air or water spray), followed by application of a top or finish coat. Curing and quenching are repeated, and the finished strip is cut or rewound and packaged for shipment or additional processing. The coating line may include one coating station or multiple coating stations. A variety of coatings may be applied. These may be decorative or protective, adhesives, or printed patterns.

The primary HAP emission source in metal coil coating is the solvent used in the coatings. The solvent basically acts as a vehicle for the material that is used to coat the coil; this solvent is usually evaporated in curing ovens, with HAP emissions occurring from both application and curing of the coating. Most, if not all, of the solvent emitted can be collected if capture equipment is installed to collect solvent vapors. Solvents are also contained in cleaning solutions that are used to clean residual coating material from the coating equipment. If a facility mixes coatings on site, this process can also be a source of HAP solvent emissions.

In the various segments of the metal coil coating industry, the same primary HAP emission sources can be found. On average, coating application and curing oven HAP emissions represent about 90 percent of the total HAP emissions from metal coil surface coating operations.

We have identified one facility that coats metal coil by electrodeposition. This method of coating application is different than the roll coating method used by most coil coaters. The company which operates this facility has expressed concern about the appropriateness of having the electrodeposition coil coating line subject to the same emission limits as other coil coaters. We have not determined that electrodeposition coating of metal coil warrants a different emission limit. Therefore, in this proposed rule, the electrodeposition coating of metal coil is subject to the same emission limits as all other coil coating. We welcome specific comments on the appropriateness of the proposed emission limits to electrodeposition coating of metal coil.

The affected source is broadly defined as the collection of all coil coating lines at a facility. This definition allows for flexibility with compliance demonstrations, i.e., averaging emissions from all coil coating lines rather than demonstrating compliance for each individual line. The proposed rule limits would apply to only the coating application and curing sections of the affected source.

C. What Is the MACT Floor That Is the Basis for the Proposed Standards?

Quantitative data on HAP use and emission control were obtained from a total of over 90 metal coil coating facilities. Qualitative data providing descriptions of metal coil coating processes, HAP control technologies, and process and control technology concerns also were obtained from site visits and industry trade groups, such as the National Coil Coaters Association. These data verified that the metal coil coating processes and HAP emission sources are similar across all industry segments, and that HAP control technologies also are the same.

The most common approach is capture/control of emissions. At many facilities, coating application stations are enclosed in rooms, and the ventilation air is directed to the control device. This type of capture system can achieve 100 percent capture of emissions when designed to meet the criteria specified in EPA Method 204 of 40 CFR part 51, appendix M. This capture system is called a permanent total enclosure (PTE). Of the surveyed facilities, 45 reported the use of PTE. Oven emissions typically are controlled by a thermal or catalytic incinerator (also known as an oxidizer). Of the surveyed facilities, 72 facilities reported they operate incinerators. Of 105 controlled lines, 79 were controlled with thermal incinerators, and 24 with catalytic oxidizers. Two lines had condenser/scrubber systems. All of the top 12 percent of existing facilities use thermal oxidizers, and eight of the facilities report achieving 100 percent capture of application station emissions through the use of permanent total enclosures. This is, therefore, the control technology that reflects the MACT floor for existing sources.

Reported values show that control systems may be capable of achieving greater than 99 percent HAP destruction, based on 100 percent capture and greater than 99 percent destruction efficiencies. The average reported overall control efficiency (OCE) of the MACT floor facilities is 99.4 percent. However, to determine the level of emission control achievable with this technology, it is important to consider not only the level of control reported, but also the control levels that EPA has generally found to be achievable for this type of control technology. This approach ensures that factors that affect control levels, such as variations in source operating conditions and inlet loadings to the control device, are accommodated in the selection of the MACT floor.

A study conducted by EPA indicated that a 98 percent reduction is the control efficiency achievable by all new oxidizers. Information from vendor guarantees supports the determination of a destruction efficiency of 98 percent for thermal incinerators. Therefore, a 98 percent facilitywide coating line OCE, based on 100 percent capture efficiency of PTE and 98 percent destruction efficiency of thermal oxidizers, was determined to be the MACT floor for existing sources.

A 98 percent facilitywide coating line OCE also was determined to be the MACT floor for new sources. No technology was identified that could achieve a better OCE, that would be applicable for all segments of the industry, than the use of PTE to capture emissions from coating application stations, and a thermal incinerator to destroy emissions from application stations and curing ovens.

Data from the surveyed facilities were used to calculate an alternative facility emission rate limit. This rate was calculated by applying the 98 percent OCE to a pre-controlled facility HAP emission rate representative for this industry. This calculation process, described in the BID (EPA 453/P-00-01), resulted in a facility HAP emission rate of 0.029 kg/l (0.24 lb/gal) of solids applied.

IX. What Is the Basis for Selecting the Format of the Proposed Standards?

Where control devices are or can be used, the proposed format for the emission standards is an overall percent reduction of emissions, taking into account both capture and control device efficiencies.

To encourage the use of low and non-HAP materials, alternative standards based on HAP content are also proposed that will achieve HAP reductions comparable to the overall percent reduction limit. Sources applying materials containing 0.029 kg organic HAP or less per l of solids applied on coating lines will not be required to operate a control device to comply with the standard because we believe that this HAP level is equivalent to an overall HAP control efficiency of 98 percent. Facilities may use a combination of capture and control systems and reduced HAP content in coatings to meet the 0.029 kg per kg of solids (0.24 lb/gal) applied emission limit.

X. Why Did We Select the Proposed Monitoring Requirements?

According to paragraph (a)(3) of section 114 of the CAA, monitoring of stationary sources is required to determine the compliance status of the sources, and whether compliance is continuous or intermittent. For affected sources complying with the proposed standards with capture and control systems, initial compliance is determined through the initial compliance test, and ongoing compliance through continuous monitoring. We are proposing the parameters to be monitored for certain types of control devices now used in the industry. The values of these parameters that correspond to compliance with the proposed standards are set by the owner or operator during the initial compliance test. These values are your operating limits. If future monitoring shows that control equipment is operating outside operating limits, then you are deviating from the operating limits, except as specified for malfunctions.

We believe that the selected monitoring parameters will adequately establish that the facility is limiting HAP emissions to the same level as the proposed MACT standards. The rationale for selecting the control device parameters for thermal and catalytic oxidizers in this proposed rule is long standing. The same monitoring parameters have also been required for previous standards. For more information, see the proposal notice for the synthetic organic chemical manufacturing industry reactor processes NSPS (55 FR 26966, June 29, 1990).

XI. Why Did We Select the Proposed Test Methods?

The proposed rule requires emissions tests for cases in which a source uses an add-on control device to reduce emissions. For the case in which no add-on control device is used, the proposed rule would require determination of the HAP content of each material applied. The test methods we propose to require are existing EPA methods that are familiar to the industry, readily available, and appropriate to the device or the parameter being measured. The tests selected are expected to adequately establish whether the facility is complying with the standard.

XII. Why Did We Select the Proposed Notification, Recordkeeping, and Reporting Requirements?

The proposed rule requires you to comply with notification, recordkeeping, and reporting requirements, generally as described in the General Provisions (40 CFR part 63, subpart A) (see table 1 of subpart SSSS) and specifically as designed to support demonstration of compliance with this proposed rule. We believe that these requirements are necessary and sufficient to ensure that you comply with the requirements in proposed subpart SSSS.

XIII. Administrative Requirements

A. Executive Order 12866, Regulatory Planning and Review

Under Executive Order 12866 (58 FR 51735, October 4, 1993), we must determine whether the regulatory action is “significant” and therefore subject to review by the Office of Management and Budget (OMB) and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligations of recipients thereof; or

(4) Raise novel legal or policy issues arising out of legal mandates, the President's priorities, or the principles set forth in the Executive Order.

Pursuant to the terms of Executive Order 12866, it has been determined that this rule is not a “significant regulatory action” because none of the listed criteria apply to this action. Consequently, this action was not submitted to OMB for review under Executive Order 12866.

B. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under section 6 of Executive Order 13132, EPA may not issue a regulation that has federalism implications, that imposes substantial direct compliance costs, and that is not required by statute, unless the Federal government provides the funds necessary to pay the direct compliance costs incurred by State and local governments, or EPA consults with State and local officials early in the process of developing the proposed regulation. The EPA also may not issue a regulation that has federalism implications and that preempts State law, unless the Agency consults with State and local officials early in the process of developing the proposed regulation.

This proposed rule will not have substantial direct effects on the States, on the relationship between the national government and the States, or on the distribution of power and responsibilities among the various levels of government, as specified in Executive Order 13132. Thus, the requirements of section 6 of the Executive Order do not apply to this proposed rule. Although section 6 of Executive Order 13132 does not apply to this proposed rule, the EPA did consult with State and local officials to enable them to provide timely input in the development of this proposed rule.

C. Executive Order 13084, Consultation and Coordination With Indian Tribal Governments

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to OMB, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's proposed rule does not significantly or uniquely affect the communities of Indian tribal governments. No tribal governments own or operate metal coil coating operations. Accordingly, the requirements of section 3(b) of Executive Order 13084 do not apply to this proposed rule.

D. Executive Order 13045, Protection of Children From Environmental Health Risks and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, the EPA must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Executive Order has the potential to influence the regulation. This proposed rule is not subject to Executive Order 13045 because it is based on technology performance and not on health or safety risks and because it is not “economically significant.”

E. Unfunded Mandates Reform Act of 1995

Title II of the Unfunded Mandates Reform Act of 1995 (UMRA), Pub. L. 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or to the private sector, of $100 million or more in any 1 year. Before promulgating an EPA rule for which a written statement is needed, section 205 of the UMRA generally requires EPA to identify and consider a reasonable number of regulatory alternatives and adopt the least costly, most cost-effective, or least-burdensome alternative that achieves the objectives of the rule. The provisions of section 205 do not apply when they are inconsistent with applicable law. Moreover, section 205 allows EPA to adopt an alternative other than the least-costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that this proposed rule does not contain a Federal mandate that may result in expenditures of $100 million or more for State, local, and tribal governments, in the aggregate, or the private sector in any 1 year. The rule does not impose any enforceable duties on State, local, or tribal governments, i.e., they own or operate no sources subject to this proposed rule and, therefore, are not required to purchase control systems to meet the requirements of this proposed rule. Regarding the private sector, EPA believes the proposed rule will affect approximately 90 existing facilities nationwide. The EPA projects that annual economic effects will be $6.2 million. Thus, today's proposed rule is not subject to the requirements of sections 202 and 205 of the UMRA. Nevertheless, in developing this proposed rule, EPA consulted with States to enable them to provide meaningful and timely input in the development of this proposed rule.

In addition, the EPA has determined that this proposed rule contains no regulatory requirements that might significantly or uniquely affect small governments because it contains no requirements that apply to such governments or impose obligations upon them. Therefore, today's proposed rule is not subject to the requirements of section 203 of the UMRA.

F. Regulatory Flexibility Act (RFA), As Amended by the Small Business Regulatory Enforcement Fairness Act of 1996 (SBREFA), 5 U.S.C. 601, et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For the purposes of assessing the impacts of today's proposed rule on small entities, small entity is defined as: (1) A small business according to Small Business Administration (SBA) size standards by 4-digit SIC code of the owning entity (in this case, ranging from 100-1,000 employees); (2) a small governmental jurisdiction that is a government of a city, county, town, school district, or special district with a population of less than 50,000; and (3) a small organization that is any not-for-profit enterprise which is independently owned and operated and is not dominant in its field.

In accordance with the RFA and SBREFA, EPA conducted an assessment of the proposed standard on small businesses within the metal coil coating industry. Based on SBA size definitions and reported sales and employment data, EPA identified 19 of the 49 companies owning metal coil coating facilities as small businesses. Although small businesses represent almost 39 percent of the companies within the source category, they are expected to incur only 8.5 percent of the total industry compliance costs of approximately $6.0 million. Under the proposed standards, the average annual compliance cost share of sales for small businesses is less than 0.2 percent with 7 of the 19 small businesses not expected to incur any additional costs because they are permitted as synthetic minor HAP emission sources. After considering the economic impacts of today's proposed rule on small entities, I certify that this action will not have a significant economic impact on a substantial number of small entities.

Although this proposed rule will not have a significant economic impact on a substantial number of small entities, EPA nonetheless has tried to limit the impact of this proposed rule on small entities. For example, the requirements of the proposed rule only apply to major sources as defined in 40 CFR part 63 and a title V or part 70 permit application can be used in lieu of an initial notification under certain conditions. Also, during the background information development phase of the rulemaking, numerous stakeholder meetings were held at which input was solicited from small entities. We continue to be interested in the potential impacts of the proposed rule on small entities and welcome comments on issues related to such impacts.

G. Paperwork Reduction Act

The information collection requirements in this proposed rule will be submitted for approval to OMB under the Paperwork Reduction Act, 44 U.S.C. 3501, et seq. An Information Collection Request (ICR) document has been prepared by EPA (ICR No. 1957.01) and a copy may be obtained from Sandy Farmer by mail at the Collection Strategies Division (2822), U.S. Environmental Protection Agency, 1200 Pennsylvania Avenue, NW, Washington, DC 20460, by email at farmer.sandy@epa.gov, or by calling (202) 260-2740. A copy may also be downloaded off the internet at http://www.epa.gov/icr. The information requirements are not effective until OMB approves them.

The information requirements are based on notification, recordkeeping, and reporting requirements in the NESHAP General Provisions (40 CFR part 63, subpart A), which are mandatory for all operators subject to national emission standards. These recordkeeping and reporting requirements are specifically authorized by section 114 of the CAA (42 U.S.C. 7414). All information submitted to EPA pursuant to the recordkeeping and reporting requirements for which a claim of confidentiality is made is safeguarded according to Agency policies set forth in 40 CFR part 2, subpart B.

The public burden of monitoring, recordkeeping, and reporting for this collection is estimated to average 281 hours per year per coil coating facility for each year after the date of promulgation of the rule including time for reviewing instructions, searching existing data sources, gathering and maintaining the data needed, and completing and reviewing the collection of information. Monitoring, recordkeeping, and reporting costs also include the startup costs associated with initial performance tests and associated notifications and reports required to demonstrate initial compliance; emission rate limit monthly compliance determinations; semiannual reports when someone does not follow a plan for start-ups, shutdowns, and malfunctions; quarterly and semiannual reports on excess emissions; maintenance inspections; notices; and recordkeeping. The total annualized costs associated with monitoring, recordkeeping, and reporting have been estimated at $784,179, which include the estimated annualized capital costs of $232,076.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations are in 40 CFR part 9 and 48 CFR chapter 15.

Comments are requested on the EPA's need for this information, the accuracy of the provided burden estimates, and any suggested methods for minimizing respondent burden, including through the use of automated collection techniques. Send comments on the ICR to the Director, Collection Strategies Division (2822), U.S. Environmental Protection Agency, 1200 Pennsylvania Ave., NW, Washington, DC 20460, and to the Office of Information and Regulatory Affairs, Office of Management and Budget, 725 17th Street, NW, Washington, DC 20503 marked “Attention: Desk Officer for EPA.” Include the ICR number in any correspondence.

Since OMB is required to make a decision concerning the ICR between 30 and 60 days after July 18, 2000, a comment to OMB is best assured of having its full effect if OMB receives it by August 17, 2000. The final rule will respond to any OMB or public comments on the information collection requirements contained in this proposal.

H. National Technology Transfer and Advancement Act

Section 12(d) of the National Technology Transfer and Advancement Act of 1995 (NTTAA), Pub. L. 104-113, section 12(d) (15 U.S.C. 272 note), directs all Federal agencies to use voluntary consensus standards (VCS) in their regulatory and procurement activities unless to do so would be inconsistent with applicable law or otherwise impractical. The VCS are technical standards (e.g., material specifications, test methods, sampling procedures, business practices, etc.) that are developed or adopted by one or more VCS bodies. The NTTAA directs EPA to provide Congress, through annual reports to OMB, with explanations when EPA does not use available and applicable VCS.

Consistent with the NTTAA, EPA conducted searches to identify VCS for use in emissions monitoring. The search for emissions monitoring procedures identified 20 VCS that appeared to have possible use in lieu of EPA standard reference methods. However, after reviewing the available standards, EPA determined that ten of the candidate consensus standards (ASTM D3154-91, ASTM D3271-87, ASTM D3464-96, ASTM D3796-90, ASTM D3960-98, ASTM D6053-96, ASTM E337-84, ISO 9096: 1992, PTC 19-10-1981, and EN 1093-4:1996) identified for measuring emissions of the HAP or surrogates subject to emission standards in the proposed rule would not be practical due to lack of equivalency, documentation, and validation data (Docket A-97-47). Seven of the remaining candidate consensus standards (BSR/ASME MFC 13m, ASTM Z6871Z, ISO/DIS 14164, ISO PWI 17895, ISO/DIS 11890-1, ISO/DIS 11890-2, and PREN 12619) are under development. The EPA plans to follow, review, and consider adopting these standards after their development is completed.

The ASTM 2369-95 is practical for EPA use as an acceptable alternative in measuring the volatile matter content of surface coatings. This VCS uses the same techniques, equipment, and procedures as Method 24. The EPA will incorporated by reference (IBR) ASTM D2369-95 into 40 CFR 63.14 in the near future.

The ASTM D2697-86 (Reapproved 98) and ASTM D6093-97 are acceptable procedures for use in determining the volume fraction of solids for a variety of coatings. The EPA will IBR ASTM D2697-86 (Reapproved 98) and ASTM D6093-97 into 40 CFR 63.14 in the near future.

Six consensus standards: ASTM D1475-90, ASTM D2369-95, ASTM D3792-91, ASTM D4017-96a, ASTM D4457-85 (Reapproved 91), and ASTM D5403-93 are already IBR in EPA Method 24; and five consensus standards: ASTM D1979-91, ASTM D3432-89, ASTM D4747-87, ASTM D4827-93, and ASTM PS 9-94 are IBR in EPA Method 311.

The EPA takes comment on proposed compliance demonstration requirements proposed in this rule and specifically invites the public to identify potentially-applicable VCS. Commentors should also explain why this proposed rule should adopt these VCS in lieu of EPA's standards. Emission test methods and performance specifications submitted for evaluation should be accompanied with a basis for the recommendation, including method validation data and the procedure used to validate the candidate method (if method other than Method 301, 40 CFR part 63, appendix A, was used).

Section 63.5160 of the proposed standards lists EPA testing methods and performance standards included in the proposed rule. Most of the standards have been used by States and industry for more than 10 years. Nevertheless, § 63.5160 allows any State or source to apply to EPA for permission to use alternative methods in place of any of the EPA testing methods or performance standards listed in § 63.5160.

List of Subjects in 40 CFR Part 63

Environmental protection, Administrative practice and procedure, Air pollution control, Hazardous substances, Intergovernmental relations, Reporting and recordkeeping requirements.

Dated: July 5, 2000.
Carol M. Browner,
Administrator.

For reasons set out in the preamble, title 40, chapter I, part 63 of the Code of Federal Regulations is proposed to be amended as follows:

PART 63—[AMENDED]

1. The authority citation for part 63 continues to read as follows:

Authority: 42 U.S.C. 7401, et seq.

2. Part 63 is amended by adding subpart SSSS to read as follows:

Subpart SSSS—National Emission Standards for Hazardous Air Pollutants: Metal Coil Coating

Sec.
What This Subpart Covers
63.5080 What is in this subpart?
63.5090 Does this subpart apply to me?
63.5100 Which of my emissions sources are affected by this subpart?
63.5110 What special definitions are used in this subpart?
Emission Standards and Compliance Dates
63.5120 What emission standards must I meet?
63.5130 When must I comply?
General Requirements for Compliance with the Emission Standards and for Monitoring and Performance Tests
63.5140 What general requirements must I meet to comply with the standards?
63.5150 What monitoring must I do?
63.5160 What performance tests must I complete?
Requirements for Showing Compliance
63.5170 How do I demonstrate compliance with the standards?
Reporting and Recordkeeping
63.5180 What reports must I submit?
63.5190 What records must I maintain?
Delegation of Authority
63.5200 What authorities may be delegated to the States?
63.5201—63.5209 [Reserved.]
Tables
Table 1 to Subpart SSSS. Applicability of General Provisions to Subpart SSSS

What This Subpart Covers

§ 63.5080 What is in this subpart?

This subpart describes the actions you must take to reduce emissions of hazardous air pollutants (HAP) if you own or operate a facility that performs metal coil coating operations and is a major source of HAP. This subpart establishes emission standards and states what you must do to comply. Certain requirements apply to all who must comply with the subpart; others depend on the means you use to comply with an emission standard.

§ 63.5090 Does this subpart apply to me?

The provisions of this subpart apply to each facility that is a major source of HAP, as defined in § 63.2, at which a coil coating line is operated.

§ 63.5100 Which of my emissions sources are affected by this subpart?

The affected source subject to this subpart is the collection of all of the coil coating lines at your facility except any coil coating line that is part of a research or laboratory facility.

§ 63.5110 What special definitions are used in this subpart?

(a) All terms used in this subpart that are not defined in this section have the meaning given to them in the Clean Air Act (CAA or Act) and in subpart A of this part.

Always-controlled work station means a work station associated with a curing oven from which the exhaust is delivered to a control device with no provision for the dryer exhaust to bypass the control device. Sampling lines for analyzers and relief valves needed for safety purposes are not considered bypass lines.

Capture efficiency means the fraction of all organic HAP emissions generated by a process that is delivered to a control device, expressed as a percentage.

Capture system means a hood, enclosed room, or other means of collecting organic HAP emissions and conveying them to a control device.

Car-seal means a seal that is placed on a device that is used to change the position of a valve or damper (e.g., from open to closed) in such a way that the position of the valve or damper cannot be changed without breaking the seal.

Coating means material applied onto or impregnated into a substrate for decorative, protective, or functional purposes. Such materials include, but are not limited to, paints, varnishes, sealants, inks, adhesives, maskants, and temporary coatings. Decorative, protective, or functional materials that consist only of solvents, protective oils, acids, bases, or any combination of these substances are not considered coatings for the purposes of this subpart.

Coil coating line means a process for metal coil coating that includes a web unwind or feed section, a series of one or more coating stations, any associated curing oven, wet section, and quench station. A coil coating line does not include ancillary operations such as mixing/thinning, cleaning, wastewater treatment, and storage of coating material.

Coil coating operation means the collection of equipment used to apply an organic coating to the surface of any continuous metal strip at least 0.15 millimeter (0.006 inch) thick or more that is packaged in a roll or coil.

Coil coating station means a work station on which a coil coating operation is conducted.

Coating materials means all coatings and products that are combined at the coating facility to create a coating (e.g., a catalyst and resin in multi-component coatings) that are applied to a metal roll or coil. For the purposes of this subpart, an organic solvent that is used to thin coating material prior to application to the metal roll or coil is considered a coating material.

Control device means a device such as a solvent recovery device or oxidizer which reduces the organic HAP in an exhaust gas by recovery or by destruction.

Control device efficiency means the ratio of organic HAP emissions recovered or destroyed by a control device to the total HAP emissions that are introduced into the control device, expressed as a percentage.

Curing oven means the device that uses heat or radiation to dry or cure the coating applied to the metal coil.

Day means a 24-consecutive-hour period.

Deviation means any instance in which an affected source, subject to this subpart, or an owner or operator of such a source:

(1) Fails to meet any requirement or obligation established by this subpart including, but not limited to, any emission limitation (including any operating limit) or work practice standard;

(2) Fails to meet any term or condition that is adopted to implement an applicable requirement in this subpart and that is included in the operating permit for any affected source required to obtain such a permit; or

(3) Fails to meet any emission limitation (including any operating limit) or work practice standard in this subpart during start-up, shutdown, or malfunction, regardless of whether or not such failure is permitted by this subpart.

Facility means all contiguous or adjoining property that is under common ownership or control, including properties that are separated only by a road or other public right-of-way.

HAP applied means the organic HAP content of all coating materials applied to a substrate by a coil coating line.

Intermittently-controllable coil coating work station means a work station associated with a curing oven with provisions for the curing oven exhaust to be delivered to or diverted from a control device depending on the position of a valve or damper. Sampling lines for analyzers and relief valves needed for safety purposes are not considered bypass lines.

Month means a calendar month or a pre-specified period of 28 days to 35 days to allow for flexibility in recordkeeping when data are based on a business accounting period.

Never-controlled coil coating work station means a work station which is not equipped with provisions by which any emissions, including those in the exhaust from any associated curing oven, may be delivered to a control device.

New source means any affected source the construction or reconstruction of which is commenced after July 18, 2000.

Overall organic HAP control efficiency means the total efficiency of a control system, determined either by:

(1) The product of the capture efficiency as determined in accordance with the requirements of § 63.5160(e) or (f) and the control device efficiency as determined in accordance with the requirements of § 63.5160(a)(1) (i) and (ii) or § 63.5160(d); or

(2) A liquid-liquid material balance in accordance with the requirements of § 63.5160(a)(3).

Permanent total enclosure (PTE) means a permanently installed enclosure that completely surrounds a source of emissions such that all emissions are captured and discharged through a control device, as defined in Method 204 of 40 CFR part 51, appendix M.

Research or laboratory equipment means any equipment for which the primary purpose is to conduct research and development into new processes and products, where such equipment is operated under the close supervision of technically trained personnel and is not engaged in the manufacture of products for commercial sale in commerce, except in a de minimis manner.

Temporary total enclosure (TTE) means an enclosure constructed for the purpose of measuring the capture efficiency of pollutants emitted from a given source, as defined in Method 204 of 40 CFR part 51, appendix M.

Work station means a unit on a coil coating line where material is deposited onto a substrate.

(b) The symbols used in equations in this subpart are defined as follows:

(1) Cahi=the monthly average, as-applied, organic HAP content of solids-containing coating material, i, expressed as a weight fraction, kilogram (kg)/kg.

(2) Casi=the monthly average, as applied, solids content, of solids-containing coating material, i, expressed as, liter of solids applied/kg of material applied.

(3) Chi=the organic HAP content of coating material, i, expressed as a weight-fraction, kg/kg.

(4) Chij=the organic HAP content of solvent, j, added to coating material, i, expressed as a weight fraction, kg/kg.

(5) Chj=the organic HAP content of solvent, j, expressed as a weight fraction, kg/kg.

(6) Ci=the organic volatile matter concentration in parts per million (ppm), dry basis, of compound, i, in the vent gas, as determined by Method 25 or Method 25A.

(7) Csi=the solids content of coating material, i, expressed as, liter of solids/kg of material.

(8) Cvi=the volatile matter content of coating material, i, expressed as a weight fraction, kg/kg.

(9) Di=the density of coating material, i, kg/l.

(10) Dj=the density of solvent, j, kg/l.

(11) Ek=the organic volatile matter control efficiency of control device, k, percent.

(12) FA=the organic volatile matter capture efficiency of the capture system for coil coating station, A, percent.

(13) He=the total monthly organic HAP emitted, kg.

(14) Hm=the facility total monthly organic HAP applied on uncontrolled coil coating stations, kg.

(15) Hs=the monthly average, as-applied, organic HAP to solids ratio, kg organic HAP/liter solids applied.

(16) Hsi=the as-applied, organic HAP to solids ratio of material, i, kg organic HAP/liter solids applied.

(17) L=the mass organic HAP emitted per volume of solids applied, kg/liter.

(18) MAi=the mass of coating material, i, applied on coil coating station, A, in a month, kg.

(19) MAij=the mass of solvent, thinner, reducer, diluent, or other non-solids-containing coating material, j, added to solids-containing coating material, i, applied on coil coating station, A, in a month, kg.

(20) MAj=the mass of solvent, thinner, reducer, diluent, or other non-solids-containing coating material (including H2O), j, applied on coil coating station, A, in a month, kg.

(21) MBi=the sum of the mass of solids-containing coating material, i, applied on intermittently-controllable work stations operating in bypass mode and the mass of solids-containing coating material, i, applied on never-controlled work stations, in a month, kg.

(22) MBj=the sum of the mass of solvent, thinner, reducer, diluent, or other non-solids-containing coating material, j, applied on intermittently-controllable work stations operating in bypass mode and the mass of solvent, thinner, reducer, diluent, or other non-solids-containing coating material, j, applied on never-controlled work stations, in a month, kg.

(23) Mci=the sum of the mass of solids-containing coating material, i, applied on intermittently-controllable work stations operating in controlled mode and the mass of solids-containing coating material, i, applied on always-controlled work stations, in a month, kg.

(24) Mcj=the sum of the mass of solvent, thinner, reducer, diluent, or other non-solids-containing coating material, j, applied on intermittently-controllable work stations operating in controlled mode and the mass of solvent, thinner, reducer, diluent, or other non-solids-containing coating material, j, applied on always-controlled work stations in a month, kg.

(25) Mf=the total organic volatile matter mass flow rate, kg/per hour (h).

(26) Mfi=the organic volatile matter mass flow rate at the inlet to the control device, kg/h.

(27) Mfo=the organic volatile matter mass flow rate at the outlet of the control device, kg/h.

(28) Mi=the mass of coating material, i, applied in a month, kg.

(29) Mij=the mass of solvent, thinner, reducer, diluent, or other non-solids-containing coating material, j, added to solids-containing coating material, i, in a month, kg.

(30) Mj=the mass of solvent, thinner, reducer, diluent, or other non-solids-containing coating material (including H2O), j, applied in a month, kg.

(31) Mkvr=the mass of volatile matter recovered in a month by solvent recovery device, k, kg.

(32) MWi=the molecular weight of compound, i, in the vent gas, kg/kg-moles (mol).

(33) Vi=the volume of coating material, i, l.

(34) Vj=the volume of solvent, j, l.

(35) Vsi=the volume fraction of solids in coating, i, l/l.

(36) n=the number of organic compounds in the vent gas.

(37) p=the number of different coating materials applied in a month.

(38) q=the number of different solvents, thinners, reducers, diluents, or other non-solids-containing coating materials applied in a month.

(39) s=the number of solvent recovery devices used to comply with the standard of § 63.5120 of this subpart, in the facility.

(40) w=the number of always-controlled coil coating stations in the facility.

(41) wi=the number of intermittently-controllable coil coating stations in the facility.

(42) x=the number of uncontrolled coil coating stations in the facility.

(43) Qsd=the volumetric flow rate of gases entering or exiting the control device, as determined by Method 2, 2A, 2C, 2D, 2F, or 2G, dry standard cubic meters (dscm)/h.

(44) R=the overall organic HAP control efficiency, percent.

(45) Rv=the organic volatile matter collection and recovery efficiency, percent.

(46) 0.0416=conversion factor for molar volume, kg-moles per cubic meter (mol/m³) (@ 293 Kelvin (K) and 760 millimeters of mercury (mmHg)).

Emission Standards and Compliance Dates

§ 63.5120 What emission standards must I meet?

(a) Each coil coating affected source must limit emissions to:

(1) No more than 2 percent of the organic HAP applied for the month; or

(2) No more than 0.029 kg of HAP per liter of solids applied for the month.

(b) You must demonstrate compliance with one of these standards by following one of the procedures in § 63.5170.

§ 63.5130 When must I comply?

(a) Your compliance date is 3 years after [DATE OF PUBLICATION OF THE FINAL RULE IN THE FEDERAL REGISTER].

(b) If you own or operate a new affected source subject to the provisions of this subpart, you must comply immediately upon start-up of the affected source, or by [DATE OF PUBLICATION OF THE FINAL RULE IN THE FEDERAL REGISTER], whichever is later.

(c) Affected sources which have undergone reconstruction are subject to the requirements for new affected sources.

General Requirements for Compliance With the Emission Standards and for Monitoring and Performance Tests

§ 63.5140 What general requirements must I meet to comply with the standards?

(a) You must be in compliance with the standards in this subpart at all times, except during periods of start-up, shutdown, and malfunction of any capture system and control device used to comply with this subpart. If you are complying with the emission standards of this subpart without the use of a capture system and control device, you must be in compliance with the standards at all times, including periods of start-up, shutdown, and malfunction.

(b) Table 1 of this subpart provides cross references to subpart A of this part, indicating the applicability of the General Provisions requirements to this subpart.

§ 63.5150 What monitoring must I do?

(a) To demonstrate continuing compliance with the standards, you must monitor and inspect each capture system and each control device required to comply with § 63.5120 following the date on which the initial performance test of a control device is completed. You must install and operate the monitoring equipment as specified in paragraphs (a)(1) through (4) of this section.

(1) Bypass monitoring. If you operate coil coating lines with intermittently-controllable work stations, you must follow at least one of the procedures in paragraphs (a)(1)(i) through (iv) of this section for each curing oven associated with these work stations to monitor for potential bypass of the control device:

(i) Flow control position indicator. Install, calibrate, maintain, and operate according to the manufacturer's specifications a flow control position indicator that provides a record indicating whether the exhaust stream from the curing oven is directed to the control device or is diverted from the control device. The time and flow control position must be recorded at least once per hour, as well as every time the flow direction is changed. The flow control position indicator must be installed at the entrance to any bypass line that could divert the exhaust stream away from the control device to the atmosphere.

(ii) Car-seal or lock-and-key valve closures. Secure any bypass line valve in the closed position with a car-seal or a lock-and-key type configuration when the control device is in operation; a visual inspection of the seal or closure mechanism will be performed at least once every month to ensure that the valve or damper is maintained in the closed position, and the exhaust stream is not diverted through the bypass line.

(iii) Valve closure continuous monitoring. Ensure that any bypass line valve or damper is in the closed position through continuous monitoring of valve position when the control device is in operation. The monitoring system must be inspected at least once every month to verify that the monitor will indicate valve position.

(iv) Automatic shutdown system. Use an automatic shutdown system in which the coil coating line is stopped when flow is diverted away from the control device to any bypass line when the control device is in operation. The automatic shutdown system must be inspected at least once every month to verify that it will detect diversions of flow and shut down operations.

(2) Continuous emission monitoring. If you are demonstrating continuous compliance with the standards in § 63.5120 through continuous emission monitoring of a control device, you must install, calibrate, operate, and maintain continuous emission monitors to measure the total organic volatile matter concentration at both the control device inlet and the outlet, and you must continuously monitor flow rate.

(i) All continuous emission monitoring systems (CEMS) must comply with performance specification 8 or 9 of 40 CFR part 60, appendix B, as appropriate for the detection principle you choose. The requirements of 40 CFR part 60, procedure 1, appendix F must also be followed. In conducting the quarterly audits of the monitors as required by procedure 1, appendix F, you must use compounds representative of the gaseous emission stream being controlled.

(ii) As specified in § 63.8(c)(4)(ii), each CEMS and each flow rate monitor must complete a minimum of one cycle of operation (sampling, analyzing, and data recording) for each successive 15-minute period. Information which must be determined for recordkeeping purposes, as required by § 63.5190(a)(1)(i) includes:

(A) The hourly average of all recorded readings;

(B) The daily average of all recorded readings for each operating day; and

(C) The 30-day average for each 30-day period during the semiannual reporting period.

(3) Temperature monitoring of oxidizers. If you are complying with the requirements of the standards in § 63.5120 through the use of an oxidizer and demonstrating continuous compliance through monitoring of an oxidizer operating parameter, you must:

(i) Determine the value of the oxidizer operating parameter during the initial performance test as specified in § 63.5160(d)(3).

(ii) Install, calibrate, maintain, and operate temperature monitoring equipment according to manufacturer's specifications. The calibration of the chart recorder, data logger, or temperature indicator must be verified every 3 months; or the chart recorder, data logger, or temperature indicator must be replaced. You must replace the equipment either if you choose not to perform the calibration, or if the equipment cannot be calibrated properly.

(iii) For an oxidizer other than a catalytic oxidizer, install, calibrate, operate, and maintain a temperature monitoring device equipped with a continuous recorder. The device must have an accuracy of ±1 percent of the temperature being monitored in degrees Celsius, or ±1 °Celsius, whichever is greater. The thermocouple or temperature sensor must be installed in the combustion chamber at a location in the combustion zone.

(iv) For a catalytic oxidizer, install, calibrate, operate, and maintain a temperature monitoring device equipped with a continuous recorder. The device must be capable of monitoring temperature with an accuracy of ±1 percent of the temperature being monitored in degrees Celsius, or ±1 degree Celsius, whichever is greater. The thermocouple or temperature sensor must be installed in the vent stream at the nearest feasible point to the inlet and outlet of the catalyst bed. Calculate the temperature rise across the catalyst.

(4) Capture system monitoring. If you are complying with the requirements of the standards in § 63.5120 through the use of a capture system and control device, you must submit a monitoring plan containing the information specified in paragraphs (a)(4)(i) and (ii) of this section. You must monitor the capture system in accordance with paragraph (a)(4)(iii) of this section. You must submit the monitoring plan to the Administrator with the compliance status report required by § 63.9(h).

(i) The monitoring plan must identify the operating parameter to be monitored to ensure that the capture efficiency measured during the initial compliance test is maintained, explain why this parameter is appropriate for demonstrating ongoing compliance, and identify the specific monitoring procedures.

(ii) The plan also must set the operating parameter value, or range of values, that demonstrate compliance with the standards in § 63.5120. The specified operating parameter and the specified range must represent the conditions indicative of proper operation and maintenance of the capture system.

(iii) You must conduct monitoring in accordance with the plan submitted to the Administrator unless comments received from the Administrator require an alternate monitoring scheme.

(b) Any deviation from the required operating parameters which are monitored in accordance with paragraphs (a)(3) and (4) of this section, unless otherwise excused, will be considered a deviation from the operating limit.

Table 1 to § 63.5150.—Control Device Monitoring Requirements Index
If you operate a coil coating line and have the following: | Then you must:
(1) Intermittently controlled work station | Monitor parameters related to possible exhaust flow through any bypass to a control device (§ 63.5150(a)(1)).
(2) Continuous emission monitor | Operate continuous emission monitors and perform a quarterly audit (§ 63.5150(a)(2)).
(3) Oxidizer | Monitor oxidizer operating parameters and calibrate oxidizer temperature sensors quarterly (§ 63.5150(a)(3)).
(4) Capture system | Monitor capture system operating parameters (§ 63.5150(a)(4)).

§ 63.5160 What performance tests must I complete?

(a) If you use a control device to comply with the requirements of § 63.5120, you are not required to conduct a performance test to demonstrate compliance if one or more of the criteria in paragraphs (a)(1) through (3) of this section are met:

(1) A control device that is in operation prior to July 18, 2000 does not need to be tested if:

(i) It is equipped with continuous emission monitors for determining inlet and outlet total organic volatile matter concentration, and capture efficiency has been determined in accordance with the requirements of this subpart, such that an overall HAP control efficiency can be calculated; and

(ii) The continuous emission monitors are used to demonstrate continuous compliance in accordance with § 63.5150(a)(2); or

(2) You have received a waiver of performance testing; or

(3) The control device is a solvent recovery system and you choose to comply by means of a monthly liquid-liquid material balance.

(b) Organic HAP content. You must determine the organic HAP weight fraction of each coating material applied by following one of the procedures in paragraphs (b)(1) through (3) of this section:

(1) Method 311. You may test the material in accordance with Method 311 of appendix A of this part. The Method 311 determination may be performed by the manufacturer of the material and the results provided to you. The organic HAP content must be calculated according to the criteria and procedures in paragraph (b)(1)(i) through (iii) of this section. If these values cannot be determined using Method 311, you must submit an alternative technique for determining their values for approval by the Administrator. The recovery efficiency of the technique must be determined for all of the target organic HAP and a correction factor, if necessary, must be determined and applied.

(i) Count only those organic HAP that are measured to be present at greater than or equal to 0.1 weight percent for carcinogens and greater than or equal to 1.0 weight percent for noncarcinogens. Do not count any organic HAP that is measured to be present at less than 0.1 weight percent for carcinogens and less than 1.0 weight percent for noncarcinogens.

(ii) The weight fraction of each organic HAP measured to be present at greater than or equal to 0.1 weight percent for carcinogens and greater than or equal to 1.0 weight percent for noncarcinogens shall be expressed as a value truncated four places after the decimal point.

(iii) Calculate the weight fraction of organic HAP in the tested material by summing the counted individual organic HAP weight fractions. The total HAP content shall be expressed as a value truncated three places after the decimal point.

(2) Method 24. You must determine the volatile matter content of each coating material applied. You may determine the volatile matter weight fraction using Method 24 of 40 CFR part 60, appendix A or an EPA approved alternative method, or you may use formulation data. The Method 24 determination may be performed by the manufacturer of the material and the results provided to you. Alternatively, you may rely on volatile matter content data provided by material suppliers. In the event of any inconsistency between the formulation data and the results of Method 24 of 40 CFR part 60, appendix A, the Method 24 results will govern.

(3) Formulation data. You may use formulation data. Formulation data may be provided to you by the manufacturer of the coating material. In the event of any inconsistency between the Method 311 of appendix A of this part test data and a facility's formulation data, the Method 311 test data will govern. Formulation data may be used provided that the information represents all organic HAP present at a level greater than 0.1 percent for carcinogens and greater than 1.0 percent for noncarcinogens in any raw material used, weighted by the mass fraction of each raw material used in the material.

(c) Solids content. You must determine the solids content of each coating material applied. You may determine the volume solids content using ASTM D2697-86 or ASTM D6093-97, or an EPA approved alternative method. The ASTM D2697-86 or ASTM D6093-97 determination may be performed by the manufacturer of the material and the results provided to you. Alternatively, you may rely on formulation data provided by material providers for your volume solids determination.

(d) Destruction efficiency of oxidizer. If you use an oxidizer to comply with the standard in § 63.5120, you must conduct a performance test to establish the destruction efficiency of the oxidizer according to the methods and procedures in paragraphs (d)(1) and (2) of this section. Oxidizer inlet and outlet testing to determine control efficiency must be conducted simultaneously. You must establish the associated combustion zone temperature for a thermal oxidizer and the associated catalyst bed inlet temperature for a catalytic oxidizer according to the procedures in paragraph (d)(3) of this section.

(1) An initial performance test to establish the destruction efficiency of an oxidizer must be conducted and the data reduced in accordance with the following methods and procedures:

(i) Method 1 or 1A of 40 CFR part 60, appendix A, is used for sample and velocity traverses to determine sampling locations.

(ii) Method 2, 2A, 2C, 2D, 2F, or 2G of 40 CFR part 60, appendix A, is used to determine gas volumetric flow rate.

(iii) Method 3, 3A, or 3B of 40 CFR part 60, appendix A, used for gas analysis to determine dry molecular weight.

(iv) Method 4 of 40 CFR part 60, appendix A, is used to determine stack gas moisture.

(v) Methods for determining gas volumetric flow rate, dry molecular weight, and stack gas moisture must be performed, as applicable, during each test run, as specified in paragraph (d)(1)(vii) of this section.

(vi) Method 25 of 40 CFR part 60, appendix A, is used to determine total gaseous non-methane organic matter concentration, except as provided in paragraphs (d)(1)(vi)(A) through (C) of this section. You must submit notification of the intended test method to the Administrator for approval along with notification of the performance test required under § 63.7(c). You may use Method 25A of 40 CFR part 60, appendix A, if:

(A) An exhaust gas volatile organic matter concentration of 50 parts per million by volume (ppmv) or less is required to comply with the standards in § 63.5120; or

(B) The volatile organic matter concentration at the inlet to the control system and the required level of control are such that result in exhaust gas volatile organic matter concentrations of 50 ppmv or less; or

(C) Because of the high efficiency of the control device, the anticipated volatile organic matter concentration at the control device exhaust is 50 ppmv or less, regardless of inlet concentration.

(vii) Each performance test must consist of three separate runs, except as provided by § 63.7(e)(3); each run must be conducted for at least 1 hour under the conditions that exist when the affected source is operating under normal operating conditions. For the purpose of determining volatile organic matter concentrations and mass flow rates, the average of the results of all runs will apply.

(viii) For each run, determine the volatile organic matter mass flow rates using Equation 1:

(ix) For each run, determine the emission control device efficiency using Equation 2. The control device efficiency is determined as the average, E, of the three runs:

(2) You must record such process information as may be necessary to determine the conditions during the performance test. Operations during periods of start-up, shutdown, and malfunction will not constitute representative conditions for the purpose of a performance test.

(3) For the purpose of determining the value of the oxidizer operating parameter that will demonstrate continuing compliance, the time-weighted average of the values recorded during the performance test will be computed. For an oxidizer other than catalytic oxidizer, you must establish as the operating parameter the minimum combustion temperature in the combustion chamber at a location in the combustion zone. For a catalytic oxidizer, you must establish as the operating parameter the minimum gas temperature at the inlet of the catalyst bed. These minimum temperatures are the operating parameter values that demonstrate continuing compliance with the requirements of § 63.5120.

(e) Capture efficiency. If you are required to determine capture efficiency to meet the requirements of § 63.5170(e)(2), (f)(1) through (2), (h)(2) through (4), or (i)(2) through (3), you must determine capture efficiency using the procedures in paragraph (e)(1) or (2) of this section, as applicable.

(1) For PTE and TTE that meet the criteria for total enclosures, capture efficiency will be assumed as 100 percent. Method 204 of 40 CFR part 51, appendix M (or an EPA approved alternative method), must be used to confirm that an enclosure meets the requirements for PTE.

(2) For enclosures that do not meet the criteria for total enclosures, the capture efficiency will be determined according to the protocol specified in Method 204A through F of 40 CFR part 51, appendix M. You may exclude never-controlled work stations from such capture efficiency determinations.

(3) As an alternative to the procedures specified in paragraphs (e)(1) and (2) of this section, if you are required to conduct a capture efficiency test, you may use any capture efficiency protocol and test methods that satisfy the criteria of either the Data Quality Objective or the Lower Confidence Limit approach as described in appendix A to subpart KK of this part. You may exclude never-controlled work stations from such capture efficiency determinations.

Table 1 to § 63.5160.—Required Performance Test Summary
If you control HAP on your coil coating line by: | You must:
Limiting HAP or volatile matter content of coatings | Determine the HAP or volatile matter and solids content of coating materials according to the procedures in § 63.5160(b) and (c).
Using an add-on control device | Conduct performance tests to determine: (1) the destruction efficiency of oxidizers according to § 63.5160(d), and (2) capture efficiency of capture systems according to § 63.5160(e).

Requirements for Showing Compliance

§ 63.5170 How do I demonstrate compliance with the standards?

(a) As-purchased compliant coatings. If you elect to use coatings that individually meet the limits in § 63.5120(a)(2) as-purchased, to which you will not add HAP during distribution or application, you must demonstrate that each coating material applied during the month contains no more than 0.029 kg HAP per liter of solids on an as-purchased basis.

(1) Determine the organic HAP content for each coating material in accordance with § 63.5160(b) and the volume solids content in accordance with § 63.5160(c).

(2) Combine these results using Equation 3 and compare the result to the allowable limit to demonstrate that each coating material contains no more organic HAP than the allowable limit.

(b) As-applied compliant coatings. You must demonstrate that each coating material applied contains no more than 0.029 kg of organic HAP per liter of solids applied in accordance with paragraph (b)(1) of this section, or demonstrate that the monthly average of all coating materials applied contain no more than 0.029 kg of organic HAP per liter of solids applied in accordance with paragraph (b)(2) of this section.

(1) Demonstrate that the organic HAP content on the basis of solids applied for each coating material applied, HSi, is less than 0.029 kg HAP per liter solids applied as determined by Equation 4:

(2) Demonstrate that the monthly average organic HAP content on the basis of solids applied, HS, of all coating materials is less than 0.029 kg HAP per liter solids applied as determined by Equation 5:

(c) Capture and control to reduce emissions to no more than the allowable limit. If you use one or more capture systems and one or more control devices and demonstrate a facilitywide average overall organic HAP control efficiency of at least 98 percent for each month, you must follow one of the procedures in paragraphs (c)(1) through (3) of this section.

(1) If the affected source uses one compliance procedure and has only always-controlled coil coating stations, then you must demonstrate compliance with the provisions of paragraph (e) of this section when emissions from the affected source are controlled by one or more solvent recovery device.

(2) If the affected source uses one compliance procedure and has only always-controlled coil coating stations, then you must demonstrate compliance with the provisions of paragraph (f) of this section when emissions are controlled by one or more oxidizers.

(3) If the affected source operates both solvent recovery and oxidizer control devices, one or more never-controlled coil coating stations, or one or more intermittently-controllable coil coating stations, or uses more than one compliance procedure, then you must demonstrate compliance with the provisions of paragraph (g) of this section.

(d) Capture and control to achieve the emission rate limit. If you use one or more capture systems and one or more control devices and limit the facility organic HAP emission rate to no more than 0.029 kg organic HAP emitted per liter of solids applied on a monthly average as-applied basis, then you must follow one of the procedures in paragraphs (d)(1) through (3) of this section.

(1) If you use one or more solvent recovery devices, you must demonstrate compliance with the provisions in paragraph (e) of this section.

(2) If you use one or more oxidizers, you must demonstrate compliance with the provisions in paragraph (f) of this section.

(3) You must demonstrate compliance with the provisions in paragraph (g) of this section if you use:

(i) Both solvent recovery and oxidizer control devices.

(ii) One or more never-controlled work stations.

(iii) One or more intermittently controlled work stations.

(e) Use of solvent recovery to demonstrate compliance. If you use one or more solvent recovery devices to control emissions from always-controlled coil coating stations, you must show compliance by following the procedures in either paragraph (e)(1) or (2) of this section:

(1) Liquid-liquid material balance. Perform a liquid-liquid material balance for each and every month as specified in paragraphs (e)(1)(i) through (vi) of this section and use the applicable equations in paragraphs (e)(1)(viii) and (ix) of this section to convert the data to units of this standard. All determinations of quantity of coating and composition of coating must be determined at a time and location in the process after all ingredients (including any dilution solvent) have been added to the coating, or appropriate adjustments must be made to account for any ingredients added after the amount of coating has been determined.

(i) Measure the mass of each coating material applied on the coil coating station or group of coil coating stations controlled by one or more solvent recovery devices during the month.

(ii) If demonstrating compliance with the facility organic HAP emission rate based on solids applied, determine the organic HAP content of each coating material applied during the month following the procedure in § 63.5160(b).

(iii) Determine the volatile matter content of each coating material applied during the month following the procedure in § 63.5160(c).

(iv) If demonstrating compliance with the facility organic HAP emission rate based on solids applied, determine the solids content of each coating material applied during the month following the procedure in § 63.5160(c).

(v) For each solvent recovery device used to comply with § 63.5120(a), install, calibrate, maintain, and operate according to the manufacturer's specifications, a device that indicates the cumulative amount of volatile matter recovered by the solvent recovery device on a monthly basis. The device must be initially certified by the manufacturer to be accurate to within ±2.0 percent.

(vi) For each solvent recovery device used to comply with § 63.5120(a), measure the amount of volatile matter recovered for the month.

(vii) Recovery efficiency, Rv. Calculate the facilitywide average volatile organic matter collection and recovery efficiency, Rv, using Equation 6:

(viii) Organic HAP emitted, He. Calculate the facility organic HAP emitted during the month, He, using Equation 7:

(ix) Facility organic HAP emission rate based on solids applied, L. Calculate the facility organic HAP emission rate based on solids applied, L, using Equation 8:

(x) Compare actual performance to performance required by compliance option. The affected source is in compliance with § 63.5120(a) if:

(A) The facilitywide average volatile organic matter collection and recovery efficiency, Rv, is 98 percent or greater; or

(B) The facility organic HAP emission rate based on solids applied, L, is 0.029 kg organic HAP per liter solids applied or less.

(2) Continuous emission monitoring of control device performance. Use continuous emission monitors to demonstrate recovery efficiency, conduct an initial performance test of capture efficiency and volumetric flow rate, and continuously monitor a site specific operating parameter to ensure that capture efficiency and volumetric flow rate are maintained following the procedures in paragraphs (e)(2) (i) through (xi) of this section:

(i) Control device control efficiency, E. For each control device used to comply with § 63.5120(a), continuously monitor the gas stream entering and exiting the control device to determine the total volatile organic matter mass flow rate (e.g., by determining the concentration of the vent gas in grams per cubic meter and the volumetric flow rate in cubic meters per second, such that the total volatile organic matter mass flow rate in grams per second can be calculated using Equation 1 of § 63.5160, such that the percent control efficiency, E, of the control device can be calculated for each month using Equation 2 of § 63.5160.

(ii) Determine the percent capture efficiency, F, for each coil coating station in accordance with § 63.5160(e).

(iii) Capture efficiency monitoring. Whenever a coil coating station is operated, continuously monitor the operating parameter established in accordance with § 63.5150(a)(4).

(iv) Control efficiency, R. Calculate the facilitywide average overall organic HAP control efficiency, R, achieved for each month using Equation 9:

(v) If demonstrating compliance with the facility organic HAP emission rate based on solids applied, measure the mass of each coating material applied on each coil coating station during the month.

(vi) If demonstrating compliance with the facility organic HAP emission rate based on solids applied, determine the organic HAP content of each coating material applied during the month in accordance with § 63.5160(b).

(vii) If demonstrating compliance with the facility organic HAP emission rate based on solids applied, determine the solids content of each coating material applied during the month in accordance with § 63.5160(c).

(viii) If demonstrating compliance with the facility organic HAP emission rate based on solids applied, calculate the organic HAP emitted during the month, He, for each month using Equation 10:

(ix) Facility organic HAP emission rate based on solids applied, L. Calculate the organic HAP emission rate based on solids applied, L, using Equation 8 of this section.

(x) Compare actual performance to performance required by compliance option. The affected source is in compliance with § 63.5120(a) if each capture system operating parameter is operated at an average value greater than or less than (as appropriate) the operating parameter value established in accordance with § 63.5150 for each 3-hour period; and

(A) The facilitywide average overall organic HAP control efficiency, R, is 98 percent or greater; or

(B) The facility organic HAP emission rate based on solids applied, L, is 0.029 kg organic HAP per liter solids applied or less.

(f) Use of oxidation to demonstrate compliance. If you use one or more oxidizers to control emissions from always controlled coil coating stations, you must follow the procedures in either paragraph (f) (1) or (2) of this section:

(1) Continuous monitoring of capture system and control device operating parameters. Demonstrate initial compliance through performance tests of capture efficiency and control device efficiency and continuing compliance through continuous monitoring of capture system and control device operating parameters as specified in paragraphs (f)(1) (i) through (xi) of this section:

(i) For each oxidizer used to comply with § 63.5120(a), determine the oxidizer control efficiency, E, using the procedure in § 63.5160(d).

(ii) Destruction efficiency monitoring. Whenever a coil coating station is operated, continuously monitor the operating parameter established in accordance with § 63.5150(a)(3).

(iii) Determine the capture system capture efficiency, F, for each coil coating station in accordance with § 63.5160(e).

(iv) Capture efficiency monitoring. Whenever a coil coating station is operated, continuously monitor the operating parameter established in accordance with § 63.5150(a)(4).

(v) Calculate the facilitywide average overall organic HAP control efficiency, R, achieved using Equation 9 of this section.

(vi) If demonstrating compliance with the facility organic HAP emission rate based on solids applied, measure the mass of each coating material applied on each coil coating station during the month.

(vii) If demonstrating compliance with the facility organic HAP emission rate based on solids applied, determine the organic HAP content of each coating material applied during the month following the procedure in § 63.5160(b).

(viii) If demonstrating compliance with the facility organic HAP emission rate based on solids applied, determine the solids content of each coating material applied during the month following the procedure in § 63.5160(c).

(ix) Organic HAP emitted, He. Calculate the organic HAP emitted during the month, He, for each month:

(A) For each coil coating station and its associated oxidizer (EK*FA/100) ≤98, use Equation 10 of this section.

(B) For each coil coating station and its associated oxidizer (EK*FA/100) >98, and you have CEMS data to support this calculated efficiency, use Equation 10 of this section.

(C) For each coil coating station and its associated oxidizer (EK*FA/100) >98, for which you do not have CEMS data to support this calculated efficiency but have operated within its established operating parameter value, use Equation 11:

(D) For periods when the oxidizer has not operated within its established operating parameter value, your control device efficiency is determined to be zero.

(x) Facility organic HAP emission rate based on solids applied, L. If demonstrating compliance with the facility organic HAP emission rate based on solids applied, calculate the organic HAP emission rate based on solids applied, L, for each month using Equation 8 of this section.

(xi) Compare actual performance to performance required by compliance option. The affected source is in compliance with § 63.5120(a) if each oxidizer is operated such that the average operating parameter value is greater than the operating parameter value established in § 63.5150(a)(3) for each 3-hour period, and each capture system operating parameter is operated at an average value greater than or less than (as appropriate) the operating parameter value established in § 63.5150(a)(4) for each 3-hour period; and

(A) The facilitywide average overall organic HAP control efficiency, R, is 98 percent or greater; or

(B) The facility organic HAP emission rate based on solids applied, L, is 0.029 kg organic HAP per liter solids applied or less.

(2) Continuous emission monitoring of control device performance. Use continuous emission monitors, conduct an initial performance test of capture efficiency, and continuously monitor a site specific operating parameter to ensure that capture efficiency is maintained. Compliance will be demonstrated in accordance with paragraph (e)(2) of this section.

(g) Combination of capture and control. You must demonstrate compliance according to the procedures in paragraphs (g) (1) through (8) of this section if both solvent recovery and oxidizer control devices, one or more never-controlled coil coating stations, one or more intermittently-controllable coil coating stations are operated, or more than one compliance procedure is used.

(1) Solvent recovery system using liquid-liquid material balance compliance demonstration. For each solvent recovery system used to control one or more coil coating stations for which you choose to comply by means of a liquid-liquid material balance, you must determine the organic HAP emissions for those coil coating stations controlled by that solvent recovery system either:

(i) In accordance with paragraphs (e)(1) (i) through (iii) and (e)(1) (v) through (viii) of this section if the coil coating stations controlled by that solvent recovery system are only always-controlled coil coating stations; or

(ii) In accordance with paragraphs (e)(1) (ii) through (iii), (e)(1) (v) through (vi), and (h) of this section if the coil coating stations controlled by that solvent recovery system include one or more never-controlled or intermittently-controllable coil coating stations.

(2) Solvent recovery system using performance test and continuous monitoring compliance demonstration. For each solvent recovery system used to control one or more coil coating stations for which you choose to comply by means of an initial test of capture efficiency, continuous emission monitoring of the control device, and continuous monitoring of a capture system operating parameter, you must:

(i) For each capture system delivering emissions to that solvent recovery system, monitor an operating parameter established in § 63.5150(a)(4) to ensure that capture system efficiency is maintained; and

(ii) Determine the organic HAP emissions for those coil coating stations served by each capture system delivering emissions to that solvent recovery system either:

(A) In accordance with paragraphs (e)(2) (i) through (iii) and (e)(2) (v) through (viii) of this section if the coil coating stations served by that capture system are only always-controlled coil coating stations; or

(B) In accordance with paragraphs (e)(2) (i) through (iii), (e)(2) (v) through (vii), and (h) of this section if the coil coating stations served by that capture system include one or more never-controlled or intermittently-controllable coil coating stations.

(3) Oxidizer using performance test and continuous monitoring of operating parameters compliance demonstration. For each oxidizer used to control emissions from one or more coil coating station for which you choose to demonstrate compliance through performance tests of capture efficiency, control device efficiency, and continuing compliance through continuous monitoring of capture system and control device operating parameters, you must:

(i) Monitor an operating parameter established in § 63.5150(a)(3) to ensure that control device efficiency is maintained; and

(ii) For each capture system delivering emissions to that oxidizer, monitor an operating parameter established in § 63.5150(a)(4) to ensure capture efficiency; and

(iii) Determine the organic HAP emissions for those coil coating stations served by each capture system delivering emissions to that oxidizer either:

(A) In accordance with paragraphs (f)(1) (i) through (v) and (ix) of this section if the coil coating stations served by that capture system are only always-controlled coil coating stations; or

(B) In accordance with paragraphs (f)(1) (i) through (v), (ix), and (h) of this section if the coil coating stations served by that capture system include one or more never-controlled or intermittently-controllable coil coating station.

(4) Oxidizer using continuous emission monitoring compliance demonstration. For each oxidizer used to control emissions from one or more coil coating station for which you choose to demonstrate compliance through an initial capture efficiency test, continuous emission monitoring of the control device, and continuous monitoring of a capture system operating parameter, you must:

(i) For each capture system delivering emissions to that oxidizer, monitor an operating parameter established in § 63.5150(a)(4) to ensure capture efficiency; and

(ii) Determine the organic HAP emissions for those coil coating stations served by each capture system delivering emissions to that oxidizer either:

(A) In accordance with paragraphs (e)(2) (i) through (iii) and (e)(2) (v) through (viii) of this section if the coil coating stations served by that capture system are only always-controlled work stations; or

(B) In accordance with paragraphs (e)(2) (i) through (iii), (e)(2) (v) through (vii), and (h) of this section if the coil coating stations served by that capture system include one or more never-controlled or intermittently-controllable coil coating station.

(5) Uncontrolled coil coating stations. For uncontrolled coil coating stations, you must determine the organic HAP applied on those coil coating stations using Equation 12 of this section. The organic HAP emitted from an uncontrolled coil coating station is equal to the organic HAP applied on that coil coating station:

(6) If demonstrating compliance with the facility organic HAP emission rate based on solids applied, you must determine the solids content of each coating material applied during the month following the procedure in § 63.5160(c).

(7) Organic HAP emitted. You must determine the organic HAP emissions for the affected source for the month by summing all organic HAP emissions calculated according to paragraphs (g)(1), (g)(2)(ii), (g)(3)(iii), (g)(4)(ii), and (g)(5) of this section.

(8) Compare actual performance to performance required by compliance option. The affected source is in compliance with § 63.5120(a) for the month if all operating parameters required to be monitored under paragraphs (g) (2) through (4) of this section were maintained at the values established in § 63.5150; and

(i) The total mass of organic HAP emitted by the affected source was not more than 0.029 kg HAP per liter of solids applied; or

(ii) The total mass of organic HAP emitted by the affected source was not more than 2 percent of the total mass of organic HAP applied by the affected source. You must determine the total mass of organic HAP applied by the affected source in the month using Equation 12 of this section.

(h) Organic HAP emissions from intermittently-controllable or never-controlled coil coating stations. If you have been expressly referenced to this paragraph by paragraphs (g)(1)(ii), (g)(2)(ii)(B), (g)(3)(iii)(B), or (g)(4)(ii)(B) of this section for calculation procedures to determine organic HAP emissions, you must for your intermittently-controllable or never-controlled coil coating stations:

(1) Determine the sum of the mass of all solids-containing coating materials which are applied on intermittently-controllable coil coating stations in bypass mode, and the mass of all solids-containing coating materials which are applied on never-controlled coil coating stations during the month, MBi.

(2) Determine the sum of the mass of all solvents, thinners, reducers, diluents, or other nonsolids-containing coating materials which are applied on intermittently-controllable coil coating stations in bypass mode, and the mass of all solvents, thinners, reducers, diluents or other nonsolids-containing coating materials which are applied on never-controlled coil coating stations during the month, MBj.

(3) Determine the sum of the mass of all solids-containing coating materials which are applied on intermittently-controllable coil coating stations in controlled mode, and the mass of all solids-containing coating materials which are applied on always-controlled coil coating stations during the month, MCi.

(4) Determine the sum of the mass of all solvents, thinners, reducers, diluents, or other nonsolids-containing coating materials which are applied on intermittently-controllable coil coating stations in controlled mode, and the mass of all solvents, thinners, reducers, diluents, or other nonsolids-containing coating materials which are applied on always-controlled coil coating stations during the month, MCj.

(5) Liquid-liquid material balance calculation of HAP emitted. For each coil coating station or group of coil coating stations for which you use the provisions of paragraph (g)(1)(ii) of this section, you must calculate the organic HAP emitted during the month using Equation 13:

(6) Control efficiency calculation of HAP emitted. For each coil coating station or group of coil coating stations for which you use the provisions of paragraphs (g)(2)(ii)(B), (g)(3)(iii)(B), or (g)(4)(ii)(B) of this section, you must calculate the organic HAP emitted during the month, He, as follows:

(i) For each coil coating station and its associated control device (EK*FA/100) ≤ 98, use Equation 14:

(ii) For each coil coating station and its associated oxidizer (EK*FA/100) > 98, and you have CEMS data to support this calculated efficiency, use Equation 14 of this section.

(iii) For each coil coating station and its associated oxidizer (EK*FA/100) > 98, and you do not have CEMS data to support this calculated efficiency, use Equation 15:

Table 1 to § 63.5170.—Compliance Demonstration Requirements Index
If you choose to demonstrate compliance by: | Then you must demonstrate that:
(1) Use of “as purchased” compliant coatings | Each coating material used does not exceed 0.029 kg HAP per liter solids, as purchased. Paragraph (a) of this section.
(2) Use of “as applied” compliant coatings | (i) Each coating material used does not exceed 0.029 kg HAP per liter solids on a monthly average as applied basis. Paragraphs (b)(1) of this section; or (ii) Monthly average of all coating materials used does not exceed 0.029 kg HAP per liter solids on a monthly average as applied basis. Paragraph (b)(2) of this section.
(3) Use of a control device | Overall organic HAP control efficiency is equal to 98 percent on a monthly basis. Paragraph (c) of this section.
(4) Use of a combination of compliant coatings and control devices and maintaining an acceptable equivalent emission rate | Average equivalent emission rate does not exceed 0.029 kg HAP per liter solids on a monthly average as applied basis. Paragraph (d) of this section.

Reporting and Recordkeeping

§ 63.5180 What reports must I submit?

(a) Submit the reports specified in paragraphs (b) through (i) of this section to the EPA Regional Office that serves the State or territory in which the affected source is located and to the delegated State agency:

(b) You must submit an initial notification required in § 63.9(b).

(1) Initial notification for existing sources will be submitted no later than 2 years after [DATE OF PUBLICATION OF FINAL RULE IN THE FEDERAL REGISTER].

(2) Initial notification for new and reconstructed sources will be submitted as required by § 63.9(b).

(3) For the purpose of this subpart, a title V permit application may be used in lieu of the initial notification required under § 63.9(b), provided the same information is contained in the permit application as required by § 63.9(b), and the State to which the permit application has been submitted has an approved operating permit program under part 70 of this chapter and has received delegation of authority from the EPA.

(4) Permit applications used in lieu of the initial notification required under § 63.9(b) will be submitted by the same due dates as those specified in paragraphs (b)(1) and (2) of this section for the initial notifications.

(c) You must submit a Notification of Performance Tests specified in §§ 63.7 and 63.9(e) if you are complying with the emission standard using a control device. This notification and the site-specific test plan required under § 63.7(c)(2) must identify the operating parameter to be monitored to ensure that the capture efficiency measured during the performance test is maintained. You may consider the operating parameter identified in the site-specific test plan to be approved unless explicitly disapproved, or unless comments received from the Administrator require monitoring of an alternate parameter.

(d) You must submit a Notification of Compliance Status as specified in § 63.9(h). You must submit the Notification of Compliance Status by 180 days after the compliance date specified in § 63.5130.

(e) You must submit performance test reports as specified in § 63.10(d)(2) if you are using a control device to comply with the emission standards and you have not obtained a waiver from the performance test requirement.

(f) You must submit start-up, shutdown, and malfunction reports as specified in § 63.10(d)(5). Unless a control device is used to comply with this subpart, the provisions in subpart A of this part pertaining to start-ups, shutdowns, and malfunctions do not apply.

(1) If your actions during a start-up, shutdown, or malfunction of an affected source (including actions taken to correct a malfunction) are not completely consistent with the procedures specified in the source's start-up, shutdown, and malfunction plan specified in § 63.6(e)(3), you must state such information in the report. The start-up, shutdown, or malfunction report will consist of a letter containing the name, title, and signature of the responsible official who is certifying its accuracy, that will be submitted to the Administrator.

(2) Separate start-up, shutdown, or malfunction reports are not required if the information is included in the report specified in paragraph (g) of this section.

(g) You must submit semi-annual compliance reports containing the information specified in paragraphs (g)(1) and (2) of this section.

(1) Compliance report dates.

(i) The first compliance report must cover the period beginning on the compliance date that is specified for your affected source in § 63.5130(a) and ending on June 30 or December 31, whichever date is the first date following the end of the first calendar half after the compliance date that is specified for your source in § 63.5130(a).

(ii) The first compliance report must be postmarked or delivered no later than July 31 or January 31, whichever date follows the end of the first calendar half after the compliance date that is specified for your affected source in § 63.5130(a).

(iii) Each subsequent compliance report must cover the semiannual reporting period from January 1 through June 30 or the semiannual reporting period from July 1 through December 31.

(iv) Each subsequent compliance report must be postmarked or delivered no later than July 31 or January 31, whichever date is the first date following the end of the semiannual reporting period.

(v) For each affected source that is subject to permitting regulations pursuant to 40 CFR part 70 or part 71, and the permitting authority has established dates for submitting semiannual reports pursuant to 40 CFR 70.6(a)(3)(iii)(A) or 40 CFR 71.6(a)(3)(iii)(A), you may submit the first and subsequent compliance reports according to the dates the permitting authority has established instead of according to the dates in paragraphs (g)(1)(i) through (iv) of this section.

(2) The semi-annual compliance report must contain the following information:

(i) Company name and address.

(ii) Statement by a responsible official with that official's name, title, and signature, certifying the accuracy of the content of the report.

(iii) Date of report and beginning and ending dates of the reporting period.

(iv) A statement that there were no deviations from the standards during the reporting period, and that no CEMS were inoperative, inactive, malfunctioning, out-of-control, repaired, or adjusted.

(h) You must submit, for each deviation occurring at an affected source where you are not using CEMS to comply with the standards in this subpart, the semi-annual compliance report containing the information in paragraphs (g)(2)(i) through (iv) of this section and the information in paragraphs (h)(1) through (3) of this section:

(1) The total operating time of each affected source during the reporting period.

(2) Information on the number, duration, and cause of deviations (including unknown cause, if applicable) as applicable, and the corrective action taken.

(3) Information on the number, duration, and cause for monitor downtime incidents (including unknown cause other than downtime associated with zero and span and other daily calibration checks, if applicable).

(i) You must submit, for each deviation occurring at an affected source where you are using CEMS to comply with the standards in this subpart, the semi-annual compliance report containing the information in paragraphs (g)(2)(i) through (iv) of this section, and the information in paragraphs (i)(1) through (12) of this section:

(1) The date and time that each malfunction started and stopped.

(2) The date and time that each CEMS was inoperative, except for zero (low-level) and high-level checks.

(3) The date and time that each CEMS was out-of-control, including the information in § 63.8(c)(8).

(4) The date and time that each deviation started and stopped, and whether each deviation occurred during a period of start-up, shutdown, or malfunction or during another period.

(5) A summary of the total duration of the deviation during the reporting period (recorded in minutes for opacity, hours for gases, and in the averaging period specified in the regulation for other types of standards), and the total duration as a percent of the total source operating time during that reporting period.

(6) A breakdown of the total duration of the deviations during the reporting period into those that are due to start-up, shutdown, control equipment problems, process problems, other known causes, and other unknown causes.

(7) A summary of the total duration of CEMS downtime during the reporting period (recorded in minutes for opacity, hours for gases, and in the averaging period specified in the regulation for other types of standards), and the total duration of CEMS downtime as a percent of the total source operating time during that reporting period.

(8) A breakdown of the total duration of CEMS downtime during the reporting period into periods that are due to monitoring equipment malfunctions, nonmonitoring equipment malfunctions, quality assurance/quality control calibrations, other known causes, and other unknown causes.

(9) A brief description of the metal coil coating line.

(10) The monitoring equipment manufacturer(s) and model number(s).

(11) The date of the latest CEMS certification or audit.

(12) A description of any changes in CEMS, processes, or controls since the last reporting period.

§ 63.5190 What records must I maintain?

(a) You must maintain the records specified in paragraphs (a) and (b) of this section in accordance with § 63.10(b)(1):

(1) Records specified in § 63.10(b)(2) of all measurements needed to demonstrate compliance with this subpart, including:

(i) Continuous emission monitor data in accordance with § 63.5150(a)(2);

(ii) Control device and capture system operating parameter data in accordance with § 63.5150(a)(1), (3), and (4);

(iii) Organic HAP content data for the purpose of demonstrating compliance in accordance with § 63.5160(b);

(iv) Volatile matter and solids content data for the purpose of demonstrating compliance in accordance with § 63.5160(c);

(v) Overall control efficiency determination using capture efficiency tests and oxidizer destruction efficiency tests in accordance with § 63.5160(d), (e), and (f); and

(vi) Material usage, HAP usage, volatile matter usage, and solids usage and compliance demonstrations using these data in accordance with § 63.5170(a), (b), and (d);

(2) Records specified in § 63.10(b)(3); and

(3) Additional records specified in § 63.10(c) for each continuous monitoring system operated by the owner or operator in accordance with § 63.5150(a)(2).

(b) Maintain records of all liquid-liquid material balances that are performed in accordance with the requirements of § 63.5170.

Delegation of Authority

§ 63.5200 What authorities may be delegated to the States?

(a) This subpart can be implemented and enforced by us, the EPA, or a delegated authority such as your State, local, or tribal agency. If the EPA Administrator has delegated authority to your State, local, or tribal agency, then that agency has the authority to implement and enforce this subpart. You should contact your EPA Regional Office to find out if this subpart is delegated to your State, local, or tribal agency.

(b) In delegating implementation and enforcement authority of this subpart to a State, local, or tribal agency under section 40 CFR part 63, subpart E, the authorities contained in paragraph (c) of this section are retained by the EPA Administrator and not transferred to the State, local, or tribal agency.

(c) Authority which will not be delegated to States, local, or tribal agencies:

(1) Approval of alternatives to the emission limitations in § 63.5120;

(2) Approval of major alternatives to test methods under § 63.7(e)(2)(ii) and (f) and as defined in § 63.5160;

(3) Approval of major alternatives to monitoring under § 63.8(f) and as defined in § 63.5150; and

(4) Approval of major alternatives to recordkeeping and reporting under § 63.10(f) and as defined in §§ 63.5180 and 63.5190.

§§ 63.5201-63.5209 [Reserved.]

Table 1 to Subpart SSSS.—Applicability of General Provisions to Subpart SSSS
General provisions reference | Applicable to subpart SSSS | Explanation
§ 63.1(a)(1)-(4) | Yes. |
§ 63.1(a)(5) | No | Reserved.
§ 63.1(a)(6)-(8) | Yes. |
§ 63.1(a)(9) | No | Reserved.
§ 63.1(a)(10)-(14) | Yes. |
§ 63.1(b)(1) | No | Subpart SSSS specifies applicability.
§ 63.1(b)(2)-(3) | Yes. |
§ 63.1(c)(1) | Yes. |
§ 63.1(c)(2) | Yes. |
§ 63.1(c)(3) | No | Reserved.
§ 63.1(c)(4) | Yes. |
§ 63.1(c)(5) | Yes. |
§ 63.1(d) | No | Reserved.
§ 63.1(e) | Yes. |
§ 63.2 | Yes | Additional definitions in subpart SSSS.
§ 63.3(a)-(c) | Yes. |
§ 63.4(a)(1)-(3) | Yes. |
§ 63.4(a)(4) | No | Reserved.
§ 63.4(a)(5) | Yes. |
§ 63.4(b)-(c) | Yes. |
§ 63.5(a)(1)-(2) | Yes. |
§ 63.5(b)(1) | Yes. |
§ 63.5(b)(2) | No | Reserved.
§ 63.5(b)(3)-(6) | Yes. |
§ 63.5(c) | No | Reserved.
§ 63.5(d) | Yes | Only total HAP emissions in terms of tons per year are required for § 63.5(d)(1)(ii)(H).
§ 63.5(e) | Yes. |
§ 63.5(f) | Yes. |
§ 63.6(a) | Yes. |
§ 63.6(b)(1)-(5) | Yes. |
§ 63.6(b)(6) | No | Reserved.
§ 63.6(b)(7) | Yes. |
§ 63.6(c)(1)-(2) | Yes. |
§ 63.6(c)(3)-(4) | No | Reserved.
§ 63.6(c)(5) | Yes. |
§ 63.6(d) | No | Reserved.
§ 63.6(e) | Yes | Provisions in § 63.6(e)(3) pertaining to start-ups, shutdowns, malfunctions, and CEMS only apply if an add-on control system is used.
§ 63.6(f) | Yes. |
§ 63.6(g) | Yes. |
§ 63.6(h) | No | Subpart SSSS does not require continuous opacity monitoring systems (COMS).
§ 63.6(i)(1)-(14) | Yes. |
§ 63.6(i)(15) | No | Reserved.
§ 63.6(i)(16) | Yes. |
§ 63.6(j) | Yes. |
§ 63.7 | Yes | With the exception of § 63.7(a)(2)(vii) and (viii), which are reserved.
§ 63.8(a)(1)-(2) | Yes. |
§ 63.8(a)(3) | No | Reserved.
§ 63.8(a)(4) | Yes. |
§ 63.8(b) | Yes. |
§ 63.8(c)(1)-(3) | Yes | Provisions only apply if an add-on control system is used.
§ 63.8(c)(4) | No. |
§ 63.8(c)(5) | No | Subpart SSSS does not require COMS.
§ 63.8(c)(6) | Yes | Provisions only apply if CEMS are used.
§ 63.8(c)(7)-(8) | Yes. |
§ 63.8(d)-(e) | Yes | Provisions only apply if CEMS are used.
§ 63.8(f)(1)-(5) | Yes. |
§ 63.8(f)(6) | No | Section 63.8(f)(6) provisions are not applicable because subpart SSSS does not require CEMS.
§ 63.8(g)(1)-(4) | Yes. |
§ 63.8(g)(5) | No. |
§ 63.9(a) | Yes. |
§ 63.9(b)(1) | Yes. |
§ 63.9(b)(2) | Yes | With the exception that § 63.5180(b)(1) provides 2 years after the proposal date for submittal of the initial notification.
§ 63.9(b)(3)-(5) | Yes. |
§ 63.9(c)-(e) | Yes. |
§ 63.9(f) | No | Subpart SSSS does not require opacity and visible emissions observations.
§ 63.9(g) | No | Provisions for COMS are not applicable.
§ 63.9(h)(1)-(3) | Yes. |
§ 63.9(h)(4) | No | Reserved.
§ 63.9(h)(5)-(6) | Yes. |
§ 63.9(i) | Yes. |
§ 63.9(j) | Yes. |
§ 63.10(a) | Yes. |
§ 63.10(b)(1)-(3) | Yes | Provisions pertaining to start-ups, shutdowns, malfunctions, and maintenance of air pollution control equipment and to CEMS do not apply unless an add-on control system is used. Also, paragraphs (b)(2) (vi), (x), (xi), and (xiii) do not apply.
§ 63.10(c)(1) | No |
§ 63.10(c)(2)-(4) | No | Reserved.
§ 63.10(c)(5)-(8) | No. |
§ 63.10(c)(9) | No. | Reserved.
§ 63.10(c)(10)-(15) | No. |
§ 63.10(d)(1)-(2) | Yes. |
§ 63.10(d)(3) | No | Subpart SSSS does not require opacity and visible emissions observations.
§ 63.10(d)(4)-(5) | Yes. |
§ 63.10(e) | No. |
§ 63.10(f) | Yes. |
§ 63.11 | Yes. |
§ 63.12 | Yes. |
§ 63.13 | Yes. |
§ 63.14 | Yes. |
§ 63.15 | Yes. |

[FR Doc. 00-17614 Filed 7-17-00; 8:45 am]

BILLING CODE 6560-50-P